OFFICE OF MANAGEMENT AND BUDGET

Compliance Assistance Resources and Points of Contact Available to Small Businesses

AGENCY: Office of Management and Budget, Executive Office of the President.

ACTION: Notice.

Authority: The Small Business Paperwork Relief Act (44 U.S.C. 3520).

SUMMARY: In accordance with the Small Business Paperwork Relief Act of 2002, the Office of Management and Budget (OMB) is publishing a “list of the compliance assistance resources available to small businesses” and a list of the points of contacts in agencies “to act as a liaison between the agency and small business concerns” with respect to the collection of information and the control of paperwork.

FOR FURTHER INFORMATION CONTACT: Keith B. Belton, Office of Information and Regulatory Affairs, Office of Management and Budget, E-mail: kbelton@omb.eop.gov, Telephone: (202) 395-4815. Inquiries may be submitted by facsimile to (202) 395-7285.

SUPPLEMENTARY INFORMATION:

A. Background

The Small Business Paperwork Relief Act of 2002 (Pub. L. 107-198) requires OMB to “publish in the Federal Register and make available on the Internet (in consultation with the Small Business Administration) “a list of the compliance assistance resources available to small businesses” (44 U.S.C. 3504(c)(6)). In addition, under another provision of this Act, “each agency shall, with respect to the collection of information and the control of paperwork, establish 1 point of contact in the agency to act as a liaison between the agency and small business concerns” (44 U.S.C. 3506(I)(1)).

Working in cooperation with the Small Business and Agriculture Enforcement Ombudsman (SBA Ombudsman) in the Small Business Administration, OMB has, with the active assistance and support of the SBA Ombudsman, assembled a list of the compliance assistance resources available to small businesses. Because it may be helpful to the public to have the list of agency contacts together with the list of compliance assistance resources, OMB is publishing these lists together. These lists are also available today on OMB's Web site at http://www.whitehouse.gov/omb/inforeg/infocoll.html. The SBA Ombudsman has created a link to this information on the SBA Ombudsman's Web site at http://www.sba.gov/ombudsman.

B. Legislative Initiatives

The publication of these lists is part of a more comprehensive effort to assist small businesses. The context for this initiative began several years ago with enactment of the “Small Business Regulatory Enforcement Fairness Act of 1996” (Pub. L. 104-121, Title II) (SBREFA). Among other provisions, SBREFA calls on agencies to “publish one or more guides to assist small entities in complying” with certain regulations (Section 212), and “to answer inquiries by small entities concerning information on, and advice about, compliance” with regulatory statutes (Section 213). In other words, Federal regulatory agencies are to develop small entity compliance guides and to answer inquiries, and provide advice, about regulatory compliance issues.

In addition, SBREFA created within the Small Business Administration the office of the “Small Business and Agriculture Enforcement Ombudsman” (Section 222). The SBA Ombudsman's responsibilities involve working “with each agency with regulatory authority over small businesses to ensure that small business concerns [involving the agency's implementation and enforcement of those regulatory authorities] are provided with a means to comment on the enforcement activity” conducted by each agency. In other words, the SBA Ombudsman is to monitor, and report annually to Congress, on the enforcement practices of Federal regulatory agencies.

SBREFA was followed by the Small Business Paperwork Relief Act of 2002 (Pub. L. 107-198) (SBPRA). As described above, this law requires OMB to publish “a list of the compliance assistance resources available to small business.” OMB is also publishing the points of contacts in agencies who are “to act as a liaison between the agency and small business concerns” with respect to the collection of information and the control of paperwork.

In addition, this statute directed the Director of OMB to convene and have a representative chair a Task Force “to study the feasibility of streamlining requirements with respect to small business concerns regarding collection of information and strengthening dissemination of information” (44 U.S.C. 3520). The Small Business Paperwork Relief Task Force has been developing recommendations to improve and more closely link the existing assistance resources through the use of information technology. More specifically, the Small Business Paperwork Relief Task Force is charged with examining five ways to reduce the information collection burden placed by government on small business concerns. They are:

1. Examine the feasibility and desirability of requiring the consolidation of information collection requirements within and across Federal agencies and programs, and identify ways of doing so.

2. Examine the feasibility and benefits to small businesses of having OMB publish a list of data collections organized in a manner by which they can more easily identify requirements with which they are expected to comply.

3. Examine the savings and develop recommendations for implementing electronic submissions of information to the Federal government with immediate feedback to the submitter.

4. Make recommendations to improve the electronic dissemination of information collected under Federal requirements.

5. Recommend a plan to develop an interactive Government-wide Internet program to identify applicable collections and facilitate compliance.

SBPRA requires OMB to publish a report on the first three topics by June 28, 2003. This report can be found on the OMB Web site at http://www.whitehouse.gov/omb/inforeg/infocoll.html. On May 5, 2004, OMB published in the Federal Register its Draft Report of the Small Business Paperwork Relief Task Force. As required, this draft report discussed the final two topics listed above. The final Report of the Small Business Paperwork Relief Task Force is available on OMB's Web site at http://www.whitehouse.gov/omb/inforeg/infocoll.html.

SBREFA and SBPRA are closely related. SBREFA focuses on helping small businesses understand how to comply with Federal regulations. SBPRA focuses on helping small businesses understand how to comply with Federal collections of information—that is, filling out forms, reporting information, and keeping certain records. These two types of requirements are related because, as the Task Force report noted, agencies generally collect information, or require those regulated to keep records, as part of regulatory provisions. The information-related provisions are designed to help the agency ensure compliance with the rule.

The close functional linkage between compliance with Federal regulations and with Federal reporting and recordkeeping requirements suggests it is important to coordinate these legislative initiatives designed to assist small businesses. It is also the reason that the development, in particular, of the list of compliance assistance resources available to small businesses should be viewed in the context of the recommendations being developed by the Small Business Paperwork Relief Task Force. The list of compliance assistance resources describes what is now available at the Federal agencies. The Task Force has developed recommendations to improve and more closely link the existing assistance resources through the use of information technology.

Donald R. Arbuckle,
Deputy Administrator, Office of Information and Regulatory Affairs.

Compliance Assistance Summaries and Points of Contact

Agriculture

Food Safety Inspection Service (FSIS)

FSIS offers compliance assistance to small meat, poultry, and egg product plants. The FSIS publishes supporting documentation and guidance materials for federally inspected establishments to use in designing and implementing sanitation standard operating procedures and hazard analysis and critical control point (HACCP) food safety systems. FSIS provides technical guidance on many subjects of regulation, including requirements for plant sanitation, the use of food ingredients and food irradiation sources, and the control of pathogens. Also, to help meet the challenges our Nation has faced since September 11, 2001, FSIS has published security guidelines for food producing establishments. Many FSIS publications are available in languages besides English. Web addresses for these publications are:

• Sanitation Compliance Guide: http://www.fsis.usda.gov/OPPDE/rdad/FRPubs/SanitationCover.htm.

• Hazard Analysis and Critical Control Point (HACCP) Systems and Pathogen Reduction: http://www.fsis.usda.gov/Science/Hazard_Analysis_&_Pathogen_Reduction/ index.asp.

• Draft of FSIS Microbiological Hazard Identification Guide for Meat And Poultry Components of Products Produced by Very Small Plants: http://www.fsis.usda.gov/OA/haccp/ hidguide.htm.

• Advice on Controlling Listeria Monocytogenes in Small and Very Small Meat and Poultry Plants: http://www.fsis.usda.gov/OPPDE/Nis/Outreach/Listeria.htm.

• Federal Register Publications and Supporting Documents: http://www.fsis.usda.gov/OPPDE/rdad/publications.htm.

• FSIS Security Guidelines for Food Processors and Distributors: http://www.fsis.usda.gov/Food_Security_&_Emergency_Preparedness/ Security_Guidelines/index.asp.

Besides its publications, FSIS offers a telephone service, FSIS HACCP Hotline (1-800-233-3935), to help establishments solve problems arising from HACCP plan development and implementation. Assistance on general matters involving meat, poultry, and egg products is available from the FSIS Technical Service Center (402-221-7400; Fax: 402-221-7438; e-mail Tech.Center@fsis.usda.gov.

FSIS also operates an extensive small establishment outreach program, featuring FSIS-sponsored workshops and programs, educational material development and distribution, HACCP and food-safety training and training sessions for FSIS consumer safety officers (http://www.fsis.usda.gov/Science/small_very_small_plant_outreach/index.asp). FSIS consumer safety officers are a highly qualified corps of individuals with the special mission of helping small establishments resolve problems arising in their implementation of HACCP systems. FSIS operates a special food safety outreach program for Native American communities; it includes training for operators of small meat plants.

Through the FSIS network of State cooperators, seminars and training classes on HACCP and food safety are held around the country for operators of food producing establishments. The Outreach Program also distributes multi-media training materials in CD-ROM and video as well as printed formats.

Another useful information source on regulatory compliance is an e-mail service by the FSIS Washington office and directly accessible on the FSIS Web site. This service, FSIS Regulations (Regulations@fsis.usda.gov) gives information on laws, regulations, and policies governing FSIS inspection programs and affecting establishments regulated by FSIS.

Animal and Plant Health Inspection Service (APHIS)

APHIS has made compliance assistance resources available to small business entities in several formats. All work extremely well in that APHIS has not received complaints or negative comments regarding insufficient information or difficulty gaining access. The listing of resources we submitted included four Web addresses:

• www.aphis.usda.gov/lpa/pubs—At this site, small entities will find publications and other materials to help explain APHIS programs such as press releases, frequently asked question, publications, industry alerts, technical reports and stakeholder announcements.

• www.aphis.usda.gov/lpa/video—This Web page provides access to videos about several APHIS programs. With proper equipment, the videos can be viewed from a computer. There is also contact information to obtain copies.

• On-Site Evaluations/Assistance—For on-site assistance, the telephone number for each Regional Office is listed to request inspections, assistance, etc.

• www.aphis.usda.gov/ies—This is the Web site of the SBREFA Contact. It contains program information and contact information. Comments, complaints, and/or suggestions can be sent by on line mail service to IES@aphis.usda.gov.

• Toll Free Telephone—Comments, complaints, and/or suggestions can be made without charge by calling 1-866-5Call IES.

Grain Inspection, Packers and Stockyards Administration (GIPSA)

Publications—Regulation, Rules, Technical and Administrative, Directives, Annual Reports: The Grain Inspection, Packers and Stockyards Administration posts current FGIS directives on the GIPSA Web site at: http://www.usda.gov/gipsa/pubs/pubs.htm or http://www.usda.gov/gipsa/reference-library/directives.htm. The publications are in PDF format, so they may be printed directly from the Web.

Seminars, classes—Technical Training (e.g., Grain Inspection): GIPSA's Technical Services Division (TSD) provides extensive training throughout the official inspection system to ensure uniform, accurate results are provided at all locations. TSD also offers customized industry education services to facilitate the commercial marketing of grain. Topics include the visual grading of any grain, rice, bean, pea, or lentil and objective, non-visual quality tests such as protein, oil, and mycotoxins. Contact Larry McDonald for more information at: larry.h.mcdonald@usda.gov.

Telephone service—information about GIPSA: Responding to customers' needs is GIPSA's main priority. GIPSA designed its programs to concentrate on customers' needs. If customers have comments on GIPSA Customer Service Standards or want information on any GIPSA programs, contact: USDA, GIPSA, STOP 3601, 1400 Independence Avenue, SW., Washington, DC 20250-3601 or telephone: (202) 720-0219.

CD ROM's/Videos/E-Learning Courses—Technical Information (e.g., Procedures for Inspection Grain): GIPSA offers various educational materials created for the U.S. grain industry. They include multimedia CD's and several brochures/handouts. Single copies of CDs are available free by mail and the brochures/handouts are available in PDF format for online viewing and/or download. All materials are public domain and may be freely duplicated and distributed in their original form. Contact Roger Friedrich for more information at: Roger.L.Friedrich@usda.gov or send a request to: request.gipsa@usda.gov.

Online/e-mail service—Wide range of information about GIPSA and its programs: Information regarding GIPSA's programs and services can be found in the GIPSA Strategic Plan and on the Agency's Web site at: http://www.usda.gov/gipsa.

Onsite Evaluations/Assistance—Process Verification Program for Grain Handlers: GIPSA is considering proposing a new process verification program to meet the market's rapidly evolving needs. In this program, GIPSA would apply internationally recognized quality management standards to verify the quality process used rather than testing actual grain itself. The process verification designation verifies the process, not the final product. The process verification program would give industry participants independent verification of their quality processes and standards, and a way to capture values not easily identified by traditional inspection and testing. For more information, contact John Sharpe at: John.R.Sharpe@usda.gov or telephone: (202) 720-0228.

Food and Nutrition Service (FNS)

The Food and Nutrition Service administers family feeding programs such as the School Lunch and Breakfast Programs, the Special Supplemental Nutrition Program for Women, Infants and Children (WIC), the Farmers' Market Nutrition Program (FMNP) and the Food Stamp Program (FSP). The Agency administers most of these programs through State agencies and, therefore, has very little direct interaction with small businesses. However, a few of our programs (or parts of them) do relate to small business in some way. This summary pertains only to those parts of FNS.

Small Business Compliance Assistance for Retailers in the Food Stamp Program. FNS is continuing to carry out its compliance assistance efforts to retailers in the Food Stamp Program. Staff have attended conferences, presented workshops and held face-to-face meetings with retailers to provide technical assistance and listen to their concerns. With regards to new initiatives, FNS has created a bi-annual publication (mailer) that is sent to all retailers that participate in the Program. The mailer provides updates on current policy and any changes to Program rules and offers tips for retailers on best practices. Secondly, FNS will begin using a simplified application for new retailers in Fall 2004. The simplified application is an improvement over the current application because we have eliminated unnecessary and duplicative questions, the questions are easier to understand and it takes less time for a storeowner to complete the form. You can find more information about our work with retailers and publications we offer on the FNS Web site at www.fns.usda.gov/fsp/retailers/. The Food Stamp regulations that relate to retailers can be found in the Code of Federal Regulations at 7 CFR parts 278 and 279 (a link to an electronic version is also available on the general FSP Web site referenced above).

Small Business Compliance Assistance for Farmers' Markets/Retailers in the WIC/FNMP Programs. Under the Child Nutrition Act provisions for the WIC and FMNP Programs, State agencies are responsible for the authorization, training, monitoring, and corrective action of small businesses such as retailers, farmers, and farmers' markets. FNS has issued regulations establishing guidelines and parameters for State agency administration of these activities. Although some uniformity is imposed by these regulations, there are also considerable areas of State discretion, so that many of the rules will not be the same from one State to the next. For example, State agencies must accept applications from retailers for WIC authorization at least once every three years, but may do so much more frequently, and each State has its own application form. For another example, States are required to allow only certain types and amounts of food to be transacted for WIC food instruments, but the precise brand, package size, and maximum allowed price will vary from State to State. The FNS Web site (http://fns.usda.gov/wic) includes the WIC/FMNP regulations (7 CFR Parts 246 and 248) and also a list of the WIC and FMNP State agency addresses, telephone numbers, and Web sites.

Agricultural Marketing Service (AMS)

The Agricultural Marketing Service (AMS) has a number of compliance assistance programs to help small entities to comply with program regulations. They range from publications to seminars to e-mail assistance to CD-ROMs and videos. The issues they discuss include information on the Perishable Agricultural Commodities Act, marketing orders, the National Organic Program, grading programs, and science & technology programs, among others. All this assistance and contact information can be accessed by clicking the appropriate program's link on the AMS Web site http://www.ams.usda.gov.

Rural Utilities Service (RUS)

The Rural Utilities Service (RUS) is a financing agency, not a regulating authority. RUS does not have enforcement policies. Its policy on minimum compliance requirements as a condition for financing is to work with the individual applicant/borrower to ensure compliance. RUS does not impose penalties or engage in enforcement activities. Assistance with its programs can be obtained at our Web site at http://www.usda.gov/rus/. This site contains information on all of our programs and complete contact information by subject matter and geographic location. If needed, a RUS field representative can come to your location to provide assistance.

Department of Agriculture Single Point of Contact: Jacquelyn Chandler, Office of Budget and Program Analysis, U.S. Department of Agriculture, 1400 Independence Avenue, SW., Rm. 147-E, Washington, DC 20250, Telephone: 202-720-1516, E-mail: jyc@obpa.usda.gov.

Commerce

The Department of Commerce understands a vibrant small business sector is critical to creating new jobs in a dynamic and growing economy, so it is mindful of its responsibilities under the Small Business Regulatory Enforcement Fairness Act (SBREFA). The Commerce Department provides substantial regulatory enforcement compliance assistance through a variety of media.

Within the Commerce Department, two agencies regulate the activities of small businesses. The National Oceanic and Atmospheric Administration (NOAA) regulate small businesses under several natural resource protection statutes that NOAA enforces, including the Marine Mammal Protection Act, the Endangered Species Act, and the Magnuson-Stevens Fishery Conservation and Management Act. The Bureau of Industry and Security (BIS), formerly the Bureau of Export Administration (BXA), regulates small businesses under the Export Administration Regulations, which set the criteria for authorizing exports of dual-use items—commercial items with potential military or weapons proliferation applications.

NOAA has a comprehensive program providing regulatory compliance guidance and assistance to small entities, which comprise much of NOAA's regulated community. It has long been NOAA's practice to answer inquiries by small entities, when appropriate, in the interest of administering statutes and regulations. NOAA answers tens of thousands of inquiries from small entities annually. Inquiries are received via telephone, mail and electronic mail; during public hearings, town hall meetings and workshops held by NOAA throughout the year; and in day-to-day interactions small entities have with NOAA. NOAA distributes compliance guides to all those to whom a rule will apply and to others who have expressed interest. It makes them available at sites where affected parties are likely to see them. The guides may take different forms to best serve the needs of the parties affected by a particular rule.

• NOAA Toll-Free Enforcement Hotline: 1-800-853-1964.

• NOAA Office for Law Enforcement: http://www.nmfs.noaa.gov/ole/index.html.

• NOAA Law Enforcement Contacts: http://www.nmfs.noaa.gov/ole/contacts.html.

NOAA program offices often prepare “plain English” summaries of new regulations and distribute them by fax to the regulated communities and the press. For complex regulations, question/answer sheets of the most frequently asked questions are often published in the fishery trade journals that are most often read by the affected fishermen. Information about NOAA's regulations and compliance guidance is often posted on NOAA Web pages and on electronic bulletin boards.

Additionally, small entities may contact specific program offices responsible for the regulations at issue. Program offices hold informational workshops to explain new regulations and answer questions from the industry concerning compliance. Fishermen, who make up much of the regulated community, often speak with NOAA's individual fishery plan coordinators for guidance in response to specific factual situations described by the fishermen. In permitted fisheries, letters explaining regulatory changes, and providing the name of a person to contact for additional information and guidance, may be sent to each permit holder. NMFS also has public affairs positions in its regional offices that specialize in community outreach.

BIS similarly provides exporters a wide range of compliance assistance. These include compliance guides in the forms of instructional brochures, fact sheets and guidance posted on the BIS Web site. BIS also educates small businesses through seminars, meetings, workshops and, when requested, one-on-one counseling.

• BIS Web site: http://www.bxa.doc.gov/index.htm.

• BIS Export Enforcement Hotline: 1-800-424-2980.

• Office of Export Enforcement Intelligence: (202) 482-1208.

• Exporter Counseling Division: (202) 482-4811.

The Office of Antiboycott Compliance (OAC) within BIS advises small businesses on compliance with the antiboycott regulations through its telephone advice line. Callers can seek compliance advice before engaging in transactions. The OAC also offers counseling to small businesses to assist them in solving their boycott problems legally. Antiboycott Advice Line: (202) 482-2381.

Patent & Trademark Office

U.S. Patent and Trademark Office (USPTO) Office of Procurement awards and administers a wide variety of contracts and simplified purchases for the acquisition of goods and services required throughout the agency. Our site includes helpful links such as current USPTO contracts, upcoming opportunities, office staff listing, helpful information for small businesses, information on our new Performance Based Organization (PBO) procedures and other related topics.

The USPTO Office of Procurement continually strives to remain on the leading edge of procurement reform and current technology. It is our goal to identify and utilize new innovative techniques to develop a partnership with industry.

A major goal at the United States Patent & Trademark Office, Office of Procurement is to promote and give consideration to small business concerns. Requirements over the micro purchase amount of $2,500 are identified early in the acquisition process to allow for consideration for small, small disadvantaged, woman-owned and minority-owned businesses. http://www.uspto.gov/web/offices/ac/comp/proc/ipa/ipamain.htm.

The Office of Procurement continues to promote Electronic Commerce (EC) and utilize innovative technologies to streamline procurement processes. Our EC effort, known as the Internet-Based Purchasing Application (IPA), has been in use for over a year now. The IPA continues to grow and is a successful tool in conducting simplified acquisitions over the Internet.

For more information please contact: Susan K. Brown, Records Officer (PRA Clearance Desk), U.S. Patent and Trademark Office, Office of the Chief Information Officer, Suite 310, 2231 Crystal Drive, Washington, DC 20231, Telephone: (703) 308-7400, E-Mail: susan.brown@uspto.gov.

Muriel A. Brown, Small Business Liaison, U.S. Patent and Trademark Office Office of Procurement, Box 6, Washington, DC 20231, Telephone: (703) 305-8370, E-mail: Muriel.brown@uspto.gov.

Department of Commerce Single Point of Contact: Tom Pyke, Office of the Chief Information Officer, U.S. Department of Commerce, 14th St. & Constitution Ave., NW., Washington, DC 20230. Telephone (202) 482-4797.

Defense

It is the Department of Defense (DOD) policy that a fair proportion of DOD total purchases, contracts, subcontracts, and other agreements for property and services be placed with small business concerns, service-disabled veteran-owned small business concerns, qualified historically underutilized business zone (HUBZone) small business concerns, small disadvantaged business concerns, women-owned small business concerns, and Historically Black Colleges and Universities and minority institutions.

The Director of the Office of Small and Disadvantaged Business Utilization (SADBU) is the principal proponent within the Office of the Secretary of Defense for executing national and DOD policy as mandated by the Congress and the President. The Director acts as ombudsman and coordinator with the functional activity concerned in responding to complaints and resolving problems encountered by small business firms performing under DOD contracts.

The Washington Headquarters Services, Directorate for Information Operations and Reports (WHS/DIOR), serves as the central repository for statistical information for the Department of Defense. General procurement data, including subcontract information, is located on the WHS/DIOR Web site at http://www.dior.whs.mil/peidhome/peidhome.htm. Specifically, SADBU utilizes the standard tabulation (ST) 28 report, titled “Contract Awards by FSC and Purchasing Office,” as a key document to assist small business concerns in identifying contracting activities with contracting potential. The ST 28 matches the dollar obligations and contract actions under each specific Federal Supply Class or Service Codes and details the contracting activities that made awards by name, city, and State. The ST 28 can be found at http://www.dior.whs.mil/peidhome/procstat/procstat.htm.

The Defense Logistics Agency, on behalf of the Secretary of Defense, administers the DOD Procurement Technical Assistance Program (PTAP). PTAP Centers are a local resource that can provide assistance to business firms in marketing products and services to the Federal, State and local governments. A list of PTAP Centers can be found at http://www.dla.mil/db/procurem.htm.

The DOD Regional Councils for Small Business Education and Advocacy are a nationwide network of small business specialists organized to promote the National Small Business Programs of the United States. Council objectives include promoting the exchange of ideas and experiences, and general information among small business specialists and the contracting community; developing closer relationships and better communication among Government entities and the small business community; and staying abreast of statutes, policies, regulations, directives, trends, and technology affecting the Small Business Program. There are eight Regional Councils sponsored by the DOD Office of Small and Disadvantaged Business Utilization (SADBU) governed by individual by-laws. Further information can be found at http://www.acq.osd.mil/sadbu/programs/regional/index.htm.

Information on DOD's initiatives and programs is available on SADBU's Web site http://www.acq.osd.mil/sadbu/index.htm. Contact information and links to DOD Component SADBU Offices can be found at http://www.acq.osd.mil/sadbu/links/sadbu.htm.

Department of Defense Single Point of Contact: Robert L. Cushing, Jr., Department of Defense, Washington Headquarters Services, Executive Services and Communications Directorate, 1225 South Clark Street, Suite 504, Arlington, VA 22202-4326. Telephone: (703) 604-6269. E-mail: robert.cushing@whs.mil.

Education

• Online information centers on grants and contracts, financial aid, education research and statistics, education policy (including legislation, regulations and guidance), and education programs: www.ed.gov.

• Online subscriptions to Department of Education newsletters: www.ed.gov.

• Department of Education programs and initiatives: 1-800-USA-LEARN (1-800-872-5327).

• Student aid: 1-800-4FED-AID (1-800-433-3243).

• Matters affecting small businesses: U.S. Department of Education, Office of Small and Disadvantaged Business Utilization, 400 Maryland Ave., SW., Washington, DC 20202; Telephone: (202) 708-9820.

• Student loan issues: www.ombudsman.ed.gov, U.S. Department of Education, FSA Ombudsman, 830 First St., NE, 4th Floor, Washington, DC 20202-5144; Telephone: 1-877-557-2575; Fax: (202) 275-0549.

Education Department Single Point of Contact: John Tressler, U.S. Department of Education, Office of the Chief Information Officer, 400 Maryland Ave. SW., Washington, DC 20202. Telephone: (202) 245-6589. E-mail: John.Tressler@ed.gov.

Energy

The Office of Small & Disadvantaged Business Utilization (OSDBU) and the Office of the Ombudsman handle small business compliance at the U.S. Department of Energy (DOE). And, each site facility and DOE contractor has a small business manager dedicated to small business compliance. (http://smallbusiness.doe.gov).

The OSDBU oversees small business programs department-wide, setting policies and procedures to ensure small business compliance in DOE contract awards. The OSDBU also maintains a Web site with a clearinghouse of small business information, as well as small business policies and regulations and information on resources available to small businesses both at DOE and at other agencies/departments. The OSDBU has an extensive outreach/marketing program, including advertising in various publications and participation in various small business conferences.

DOE maintains a number of partnerships with many Federal agencies such as the Small Business Administration and the Office of Federal Contract Compliance to promote small business compliance. The OSDBU has a “Small Business Council” composed of representatives of major trade associations, small and minority business chambers, women and veteran groups to ensure information/feedback to/from the small business community relative to small business compliance.

The Office of the Ombudsman provides small business access to an impartial review of their issues in dealing with the DOE and its contractors. The Office gives small business guidance and referral services to the correct entity within DOE and serves as a voice for the small business within DOE.

Department of Energy Single Point of Contact: Theresa Speake, Director, Office of Small & Disadvantaged Business Utilization, U.S. Department of Energy, 1000 Independence Ave., SW., Washington, DC 20585. Telephone: (202) 586-8383. E-mail: Theresa.Speake@hq.doe.gov.

Health and Human Services

Located in HHS's Office of the Secretary, the Department's Office of Small and Disadvantaged Business Utilization (OSDBU) fosters the use of small and disadvantaged businesses as Federal contractors. To accomplish this task, the OSDBU develops and implements outreach programs aimed at heightening the awareness of small business community to the contracting opportunities available across the Department.

Outreach efforts include activities such as sponsoring small business fairs and procurement conferences as well as participating in trade group seminars, conventions, and other forums, which promote the utilization of small and disadvantaged businesses as contractors. The OSDBU Web page, www.HHS.gov/osdbu, presents important resources to aid contractors in doing business with the Department. OSBDU's Director is Ms. Debbie Ridgeley. Ms. Ridgeley may be contacted by telephone at (202) 690-7300, or by E-mail at: Debbie.ridgely@hhs.gov.

Food and Drug Association (FDA)

FDA provides a wealth of written and electronic information to assist small business compliance with FDA regulatory requirements. FDA has published hundreds of guidelines to assist regulated industry, including small business, in complying with the laws and regulations that FDA administers. These guidelines cover virtually all areas that FDA regulates, from new drug and medical device premarket review, to product import and export issues, to issues that relate to the manufacture of foods, drugs, devices, and biological products.

FDA has also published and made widely available guidelines that the agency has developed for its own enforcement and compliance staff. These guidelines describe the general standards for compliance action and set forth the procedures to be followed in conducting investigational and enforcement activities. Essentially all of these written materials are available through FDA's many Web sites. FDA has also prepared “plain language” versions of some of the more technical documents to assist small businesses and others in understanding FDA's expectations.

FDA has created a number of small business and industry assistance “homepages” on its Web sites that bring together an array of useful regulatory and compliance information. For example, the Center for Devices and Radiological Health has created a “Device Advice” Web page, a self-service interactive site for obtaining information about medical devices. The human pharmaceutical program has created a comparable Web page, “A Small Business Assistance”.

FDA's Small Business Representatives (SBR's) are a significant resource for the small business community. Each of FDA's five regional offices is assigned an SBR to provide small business educational outreach and training.

FDA regional offices represent another significant informational resource for the small business community. The regional offices answer thousands of questions, conduct scores of training programs, and organize many “grassroots” meeting to educate the regulated industry, especially small businesses, about emerging regulatory topics of interest.

In addition, FDA's public affairs specialists (PAS's), who are assigned to many of the agency's field offices, are able to respond to questions about FDA's programs, policies, and procedures.

Finally, FDA has appointed ombudsmen in the Office of the Commissioner, the Center for Drug Evaluation and Research, the Center for Biologics Evaluation and Research, the Center for Veterinary Medicine, and the Center for Devices and Radiological Health. These officials not only provide compliance assistance, but also help regulated companies explore available options in resolving disputes with the agency.

Technical guides. FDA has issued hundreds of guides to assist manufacturers in meeting premarket approval and other regulatory requirements. Among these guidelines a number of guidelines expressly directed to the concerns and needs of small businesses.

Inspectional guides. FDA has made publicly available the agency's manuals and written procedures governing the conduct of inspectional and investigational activities

Policy guides. FDA has issued many guidelines to help regulated industry understand the laws, policies, and regulations that FDA administers. Many of these documents are issued in “plain language” versions to assist small businesses and others in understanding FDA's expectations.

All of the above-cited guidance materials may be accessed through the following Web sites:

• Center for Drug Evaluation and Research Guidance Documents: http://www.fda.gov/cder/guidance/index.htm.

• Center for Devices and Radiological Health Guidance Documents for Industry: http://www.fda.gov/cdrh/guidance.html.

• Center for Food Safety and Applied Nutrition Food and Cosmetic Guidance Documents: http://www.cfsan.fda.gov/~dms/guidance.html.

• Office of Regulatory Affairs Inspection References: http://www.fda.gov/ora/inspect_ref/default.htm.

Web Assistance. The following small business and industry-assistance homepages also bring together an array of useful regulatory and compliance information:

• Center for Drug Evaluation and Research (CDER) Small Business Assistance: http://www.fda.gov/cder/about/smallbiz/default.htm—This site provides a listing of various programs, laws, regulations, and organizations that pertain to the drug development and approval process. This site is specifically geared to small businesses; however, general information relating to both small and large businesses is also available here (i.e., guidance documents, CDER calendar, etc. * * *)

• Information on Devices: http://www.fda.gov/cdrh/devadvice/—This is an interactive, self-service site. It contains information on “How to Market Your Device” as well as an overview of the regulations, guidance documents, consumer information, and more.

• Veterinary Products: http://www.fda.gov/cvm/faqs/faqs.html—This site answers “Frequently Asked Questions” about veterinary products. It includes links to sites that provide information and requirements for topics such as “New Animal Drug Approval” and “Marketing a Pet Food Product,” as well as others.

• Center for Biologic Evaluation and Research (CBER): http://www.fda.gov/CBER/manufacturer.htm—This Web site from the Center for Biologic Evaluation and Research explains the manufacturer's assistance program, which provides assistance and training to companies, both large and small, regarding CBER policies and procedures. This site also contains links to other sites that may be of values to the small business owner.

• Office of Regulatory Affairs Information on Small Business: http://www.fda.gov/ora/fed_state/small_business/default.htm.

• Office of Regulatory Affairs Small Business Guide to FDA: http://www.fda.gov/ora/fed_state/Small_Business/sb_guide/default.htm. This site is from the FDA's Office of Regulatory Affairs. It offers links to a number of useful sites such as “What to do when marketing a new product,” “recalling a product,” “undergoing an FDA inspection,” etc. * * * It also provides an introduction to the Federal Register, information on obtaining FDA documents, frequently call numbers, and much more information.

• Center for Food Safety and Applied Nutrition Guide to Starting a Food Business: http://www.cfsan.fda.gov/~comm/foodbiz.html—Advice on “Starting a Food Business” which may be of interest for the (potential) small business owner. This site provides links to Federal and State regulatory agencies, import & export information, as well as several other helpful sites.

Small Business and Industry Assistance Offices. Each major FDA component has its own industry assistance office. Staff in these offices provide program-specific information and compliance assistance, through the contact points indicated below:

CDER Small Business Assistance Drug Information Branch. Telephone (301) 827-4573, ordib@cder.fda.gov.

CBER Division of Manufacturers Assistance and Training. Telephone (301) 827-2000, or matt@cber.fda.gov.

CDRH Division of Small Manufacturers, International and Consumer Assistance. Telephone: 1-800-638-2041, or dsma@cdrh.fda.gov.

CVM communications staff. Telephone: (301) 827-3806, or jkla@cvm.fda.gov.

CFSAN industry activities staff. Telephone: (301) 436-1730, or giguina@cfsan.fda.gov.

The Small Business Representatives identified below in each of FDA's five regional offices provide small businesses with personalized educational outreach and compliance assistance:

Northeast Region (CT, MA, ME, NH, NY, RI, VT): Marilyn Corretto, 158-15 Liberty Avenue, Jamaica, NY 11433-1034. Telephone: (718) 662-5618. Fax: (718) 662-5434. E-mail: oranersbr@ora.fda.gov.

Central Region (DC, DE, IL, IN, KY, MD, MI, MN, ND, NJ, OH, PA, SD, VA, WI, WV): Marie T. Falcone, U.S. Customhouse, 2nd and Chestnut Sts., Room 900, Philadelphia, PA 19106. Telephone: (215) 597-2120 ext. 4003. Fax: (215) 597-5798. E-mail: mfalcone@ora.fda.gov.

Southeast Region (AL, FL, GA, LA, MS, NC, PR, SC, TN, VI): Food and Drug Administration, 60 Eighth St., NE., Atlanta, GA 30309. Telephone: (404) 253-1217. Fax: (404) 253-1207. E-mail: orasesbr@ora.fda.gov.

Southwest Region (AR, CO, IA, KS, MO, NE, NM, OK, TX, UT, WY): David Arvelo, 40 N. Central Expy., Suite 900, Dallas, TX 75204. Telephone: (214) 253-4952. Assistant: Sue Thomason, telephone: (214) 253-4951. Fax: (214) 253-4970. E-mail: oraswrsbr@ora.fda.gov.

Pacific Region (AK, AZ, CA, HI, ID, MT, NV, OR, WA): Marcia Madrigal, Oakland Federal Building, 1301 Clay Street, Suite 1180-N, Oakland, CA 94612-5217. Telephone: (510) 637-3980. Fax: (510) 637-3977. E-mail: mmadriga@ora.fda.gov.

Ombudsman. FDA's Ombudsman Offices provide compliance assistance and assistance in informal dispute resolution. There are also ombudsmen offices in most of the program offices. Contacts are as follows:

Office of the Commissioner: Laurie Lenkel, Office of the Ombudsman, Food and Drug Administration, 5600 Fishers Lane, Room 4B-44, HF-7, Rockville, MD 2085. Telephone: (301) 827-3390. Fax: (301) 480-8039. E-mail: ombuds@oc.fda.gov.

Center for Biologics Evaluation and Research: Sherry Lard Whiteford,

CBER Ombudsman (HFM-4), Center for Biologics Evaluation and Research, 1401 Rockville Pike, Suite 200N, Rockville, MD 20852-1448. Telephone: (301) 827-0379. E-mail: lard@cber.fda.gov.

Center for Drug Evaluation and Research: CDER Ombudsman (HFD-1) 5600 Fishers Lane, Room 9-74, Rockvillle, MD 20857. Telephone: (301) 594-5443 or (301) 827-4312. E-mail: ombudsman@cder.fda.gov.

Center for Devices and Radiological Health: Les Weinstein, CDRH Ombudsman, Office of the Center Director, Center for Devices and Radiological Health, U.S. Food and Drug Administration, 9200 Corporate Blvd. (HFZ-5), Rockville, MD 20850. Telephone: (301) 827-7991. Fax: (301) 827-2565. E-mail: ombudsman@cdrh.fda.gov.

Center for Veterinary Medicine: Marcia K. Larkins, D.V.M, FDA Center for Veterinary Medicine, Ombudsman, 7519 Standish Place HFV-7, Rockville, MD 20855. Telephone: (301) 827-4535. Fax: (301) 827-3957. E-Mail: mlarkins@cvm.fda.gov.

Center for Medicare and Medicaid Services (CMS)

Small Business Office. CMS has a full time Small and Disadvantaged Business Utilization Specialist (SDBUS) located in its Acquisition and Grants Group. The SDBUS is the Agency's focal point for ensuring that all reasonable action is taken to increase awards to small, small disadvantaged, HUBZones, and women-owned businesses. This Office maintains company profiles and capability statements for all types of services. Inquiries should be directed to Sharon McKinney, on (410) 786-5162, or e-mail may be sent to: smckinney@cms.hhs.gov.

Grant Opportunities. While CMS's Program Offices are concerned with the scientific, technical and programmatic topics, the Acquisition and Grants Group/Research Contracts and Grants Division is primarily charged with the business management and policy aspects of CMS's discretionary grant and cooperative agreement activities.

Currently, CMS conducts a myriad of R&D programs including (but not limited to) the following: Real Choice Systems Change Grants, Medicaid Infrastructure Grants, State Health Insurance Assistance Program, Historically Black Colleges and Universities, and Hispanic Health Initiatives. For additional information, please contact Judy Norris on (410) 786-5130 or e-mail to: jnorris1@cms.hhs.gov.

Regulatory Burden. The CMS liaison with the Small Business Administration's Office of the National Ombudsman is the Office of Strategic Operations and Regulatory Affairs (OSORA).

OSORA is the Agency's focal point for assessing and reducing the burden of Federal paperwork on small businesses in accordance with the Small Business Paperwork Relief Act of 2002 (SBPRA).

OSORA is responsible for responding to small entity concerns on regulatory burden, coordinating the development of department-wide non-retaliation policy with the Department of Health and Human Services, and participating in Regulatory Enforcement Fairness hearings and meetings when issues relate to the CMS mission.

OSORA has established the following resources as contacts for small businesses experiencing problems pertaining to the regulatory burden aspect of doing business: Phone: (410) 786-1002. E-mail: sbaombudsman@cms.hhs.gov.

Web site. In addition, CMS provides on its all-purpose Web site www.cms.hhs.gov extensive amounts of information about the agency's programs, organized in terms of the kind of health-service provider affected, e.g., hospitals, nursing homes home health agencies, or durable medical equipment suppliers. This information is not currently differentiated in terms of the size of these providers' business entities, but CMS is planning to take steps in the near future to earmark the information in terms of its applicability to small businesses.

National Institutes of Health (NIH)

The NIH Small Business Office (SBO) serves as an advocate for small business through various program activities and outreach efforts. These efforts are intended to maximize prime and subcontract acquisition opportunities at the NIH for small businesses owned by the disadvantaged, women, veterans, service-disabled veterans, and Historically Underutilized Business Zone (HUBZone) concerns. Inquires should be sent to Diana Mukitarian, Chief, (301) 496-9639, sbmail@od.nih.gov.

The Small Business Program is located in the NIH's Office of Acquisition Management and Policy, whose URL is: http://oa.od.nih.gov/oamp/index.html. Among other things, the Small Business Program at the NIH is responsible for:

• Developing and maintaining acquisition review procedures and guidelines for requests for contracts, subcontracting plans and operations as contract activities. Such reviews result in recommendations to contracting officers regarding the method of acquisition to be pursued and the acceptability of proposed subcontracting plans and prime contractors' small business programs;

• Conducting surveillance of contract, simplified acquisition and satellite small business program activity, and conducting studies of specific problem areas to ensure effective small business program performance and compliance with applicable laws and regulations;

• Ensuring the development and presentation of management data to provide continuing visibility of program activity and to evaluate program accomplishments against agency socio-economic goals;

• Representing the NIH at Federal, State, local government and congressional small business conferences and fairs. Serving as a guest and expert speaker at various Federal, State, local government and Congressional small business conferences and fairs;

• Serving as a liaison between the NIH program and contract staff and the contractor community;

• Delivering industry assistance by maintaining a program designed to locate capable small, disadvantaged, woman, veteran, service-disabled and HUBZone-owned small business concerns for current and future acquisitions;

• Representing the NIH to industry by interfacing with CEOs and other principals of private companies, to include small and large firms, as well as nonprofits and universities;

• Responding to inquiries and requests for advice from small, disadvantaged, woman, veteran, service-disabled and HUBZone-owned businesses; and assisting small business in their marketing and business development efforts and activities.

Health Resources and Services Administration

The Health Resources and Services Administration (HRSA) exists primarily to expand access to health care for medically underserved individuals and families across the nation through community-based networks of primary and preventive health care services. HRSA has become known as “The ‘Access’ Agency” for its services to Americans who lack health insurance; 62 million Americans in rural communities; 78 million racial and ethnic minorities; over 800,000 Americans with HIV/AIDS; and about 80,000 U.S. residents awaiting organ transplants.

HRSA Contracting Office and Small Business Representative. The HRSA contracting office, the Contracts Operations Branch, is currently part of the Division of Grants and Procurement Management. The current Small Business Representative, Ms. Debora Pitts, is available to assist small businesses in navigating the field of HRSA acquisitions. Ms. Pitts may be contacted at (301) 443-3789.

Key Contact Persons in HRSA Contracts. HRSA “HCA” (Head of Contracting Activities) is Dr. Albert F. Marra, who may be reached at (301) 443-1433. The HRSA Chief of the Contracts Operations Branch is Mr. Steve Zangwill, who may be contacted at (301) 443-5097. Mr. Zangwill is assisted by Mr. Frank Murphy, who leads the negotiated contract team, at (301) 443-5165, and Ms. Bonnie Garcia, who heads the simplified acquisitions team at (301) 443-5116. The main office number is (301) 443-1433.

All contracting opportunities at HRSA are announced publicly via the World Wide Web using the government's new FedBizOpps program at the following Web site: www.fedbizopps.gov.

Contractors and vendors are urged to visit that site, as well as the larger HRSA Web site at www.hrsa.gov to keep abreast of contracting needs as well as programmatic changes and developments. Another vehicle open to interested potential contractors is to study the grants funding opportunities available to various agencies and organizations. These grants opportunities, which are also announced via the Web, the Federal Register, FedBizOpps, and through “The HRSA Preview,” give further indications of potential acquisitions needs. The HRSA Preview may be obtained through the HRSA web site or by calling 1-877-HRSA-123. Contractors may also find fertile opportunities for sub-contracting with HRSA grantees.

Department of Health and Human Services Single Point of Contact: Debbie Ridgely, Director, Office of Small and Disadvantaged Business Utilization, Room 360-G Humphrey Building, Washington, DC 20201. Telephone: (202) 260-0040. E-mail: SB.PRA@HHS.gov.

Homeland Security

Office of Small and Disadvantaged Business Utilization (OSDBU). The Department of Homeland Security's (DHS) Office of Small Business and Disadvantaged Business Utilization (OSDBU) assists, counsels, and advises small businesses of all types (small businesses, small disadvantaged business, women-owned small businesses, veteran owned small businesses, service disabled veteran owned small businesses, and small businesses located in historically underutilized business zones) on procedures for contracting with DHS. The point of contact for this small business program is Kevin Boshears; he may be reached at (202) 772-9792 and kevin.boshears@dhs.gov.

Office of the Private Sector. The Office of the Private Sector has an e-mail address where small business inquiries could be made, namely private.sector@dhs.gov. The Office will, pursuant to the Homeland Security Act, have the capability to advise the Secretary regarding the impact on the private sector, including small business, of proposed regulations concerning homeland security. For now, an individual and phone number that can be used as an entry point to the Office would be Ms. Elizabeth Callaway at (202) 282-8484 and elizabeth.callaway@dhs.gov.

Department of Homeland Security Single Point of Contact: Ms. Elizabeth Callaway, U.S. Department of Homeland Security, Attn: Private Sector Office, Washington, DC 20528. Telephone: (202) 282-8484. E-mail: Elizabeth.callaway@dhs.gov.

Bureau of Citizenship & Immigration Services (INS)

The paperwork requirement imposed by the Bureau of Citizenship and Immigration Services is the Form I-9. Completion of this one-page form by employers helps to insure a legal workforce within the United States and does not present a significant burden for businesses. The Bureau has instituted electronic filing of some applications and provides application status on line. These improvements have been a boost to many businesses, providing a speedy mechanism for filling critical positions with foreign experts or semi-skilled workers with temporary and permanent foreign workers. Many employers make use of the Bureau's petitions and applications for approval to hire alien temporary workers.

Live voice assistance, Employer Hotline (800) 357-2099 is available for employers and Live voice assistance for general questions (800) 357-5283. Information for e-filing can be found at www.bcis.gov. Employer Assistance Resources can be found at www.bcis.gov under the title “Information for Employers”, Office of Business Liaison. Requests for speakers and questions can be faxed to (202) 305-2523.

DHS Point of Contact for Small Business Compliance Assistance: Felicia A. Colvin, Supervisory Information Specialist, Office of Business Liaison, Bureau of Citizenship and Immigration Services. Telephone: (202) 305-2461.

Bureau of Customs and Border Protection (CBP)

The newly formed Bureau of Customs and Border Protection (CBP) has been working under the trade concept of “informed compliance” since the passage of the Customs Modernization Act (1993). This law mandated CBP to develop a proactive strategy to advise importers of their responsibilities under the law. To fulfill this mandate, CBP has implemented several measures for providing guidance on laws governing international trade for all importers and exporters, including small businesses. Small businesses can avail themselves of this information using the following means: CBP Web Site (downloadable); local and national trade meetings/seminars; weekly publications of the Customs Bulletin; binding rulings program; other informed compliance brochures and pamphlets; and direct contact with CBP personnel.

There are over 300 ports of entry where we enforce numerous laws for CBP and other government agencies while serving as America's frontline for border security. As the agency's primary responsibility, CBP has twin goals of improving security and facilitating legitimate trade and travel, which are not mutually exclusive. In its role to facilitate trade, CBP has always provided compliance assistance to the trade community about the laws and regulations that apply to importing and exporting. Customs officers at the ports of entry, the Strategic Trade Centers, field operations offices and at Headquarters daily receive and respond to requests for information from the public.

• CBP Web site: http://www.cbp.gov/xp/cgov/toolbox/ports/.

The CBP Web site lists all ports of entry with their addresses and telephone numbers. CBP has incorporated a Customer Service Center that responds to inquiries via a toll free number (1-877-Customs). The Office of Trade Relations (OTR) is designated as the point of contact within CBP for small businesses and may be reached at (202) 927-1440 or via e-mail at traderelations@dhs.gov. This office was revamped in 2002 to ensure effective, extensive communication between CBP and all facets of the trade community. Any small entity seeking general information about importing procedures or wanting to comment on their interaction with CBP may contact OTR for assistance.

Contact Information. Customs and Border Protection, Office of Trade Relations, 1300 Pennsylvania Avenue NW., Room 4.2A, Washington, DC 20229. Telephone: (202) 927-1440. Fax: (202) 927-1696. E-mail: traderelations@dhs.gov.

Coast Guard

The Coast Guard encourages small entities to participate in the development of Coast Guard regulations. Our Web site offers help in understanding and complying with those regulations. Use the following links to access help in these areas:

• Small Entity Regulatory Assistance: http://www.uscg.mil/hq/g-m/regs/sbrefa.html.

• Marine Safety, Security and Environmental Protection regulations: http://www.uscg.mil/hq/g-m/regs/reghome.html.

• Boating Safety regulations: http://www.uscgboating.org/.

The Coast Guard proudly maintains the following policy: If you question or lodge a complaint regarding a Coast Guard policy or action, to us or to anyone else, or if you seek outside help in dealing with a Coast Guard policy or action, the Coast Guard will not retaliate against you in any fashion. The Coast Guard wants you to be able to comment, question, or lodge a complaint about our policies or actions without fear that we will retaliate or try to discourage future questions or complaints. If you think the Coast Guard has broken this promise, we will investigate, take appropriate action, and make sure that mistakes are not repeated. You may comment, ask questions, or file a complaint about Coast Guard policies or actions by contacting your local Coast Guard office, or you can also contact the Small Business Administration Office of the National Ombudsman at 888-REG-FAIR (734-3247), fax: (202) 481-5719, e-mail: ombudsman@sba.gov.

Small businesses generally are independently owned and operated and are not dominant in their field. If you need help determining whether or not your business qualifies as a “small business”, contact the SBA's Office of the National Ombudsman using the information given in the preceding paragraph.

Coast Guard single point of contact: Steve Venckus, Chief, Office of Regulations and Administrative Law (G-LRA), 2100 2d Street, SW., (Room 1417), Washington, DC 20593-0001. Phone: (202) 267-1534. Fax: (202) 267-6234. E-mail: svenckus@comdt.uscg.mil.

Housing and Urban Development

The Office of Small and Disadvantaged Business Utilization OSDBU has many tools available for small businesses. Through the establishment of the Information Technology (IT) training HUD has provided a learning tool for small businesses to understand all aspects of HUD's IT opportunities. Introducing this training program has enabled HUD to form partnerships with small businesses and identify qualified companies to seek IT opportunities within the agency.

HUD sponsors Marketing and Outreach business fairs and focuses both on direct HUD contracting opportunities and contracting opportunities created by HUD assisted projects including Community Development Block Grant recipients and Public Housing authorities. HUD outreach sessions include HUD program offices and prime contractors who offer sub-contracting opportunities to small, small disadvantaged and women-owned businesses. HUD has attended approximately 50 outreach conferences including procurement fairs, trade shows, marketplace presentations throughout the country with a strong emphasis on the utilization of small businesses.

HUD's contracting home page is linked to the OSDBU home page in HUD's Web site. The contracting home page contains notices of HUD procurement opportunities and allows interested parties to download a file containing solicitations. A special OSDBU page contains Small Business tips, the Forecast of Contracting Opportunities, a Small Business Resource Guide and notification of outreach activities.

HUD also has the HUD Procurement System (HPS), an integrated commercial and customized software program that automates procurement operations department-wide. This system includes a rapid query of contracting information that enables all companies to submit bids or proposals for upcoming contracting opportunities and the identification of HUBZones for participation in contracting and sub-contracting opportunities. Additionally, it provides HUD with a system to monitor and evaluate its actual achievements in regard to participation of small businesses in HUD activities.

HUD sponsors Marketing and Outreach business fairs and focuses both on direct HUD contracting opportunities and indirect contracting opportunities created by HUD assisted projects including, Community Development Block Grant recipients and public housing authorities. During these events, program offices and prime contractors who offer sub-contracting opportunities to small, small disadvantaged and women owned businesses are urged to attend. Last year, HUD attended approximately 50 outreach conferences including procurement fairs, trade shows and marketplace presentations throughout the country. The OSDBU Business Utilization Development Specials (BUDS), have regular one-on-one meetings with small businesses. The Director holds “Thursday Open House” sessions for all small, small disadvantaged and Women Owned Small Businesses (WOSBs). These meetings give small businesses the opportunity to meet personally with the Director and the specialized BUDS advocate within the OSDBU. The aforementioned efforts are in addition to the daily counseling and one-on-one meetings held with these businesses at the HUD headquarters and field offices.

The OSDBU has increased its staff to include a Contract Specialist, an Information Technology Specialist, a Small Business Policy Specialist and a Research Analyst. HUD has implemented innovative projects and tools utilizing the latest technologies that have and will continue to have a positive effect on the participation of WOSBs in departmental contracting activities. There are IT outreach sessions held regularly with IT small businesses to inform them of new procurement opportunities at HUD.

New Methodologies that challenge conventional procedures include the establishment of subcontracting policies that have resulted in an increase in contract dollars to small businesses. The HUD Procurement System (HPS) effectively tracks all contracting and subcontracting dollars awarded to small businesses. HUD has established a subcontracting goal of up to 40% of the total value of each contract and subsequent extensions, modifications and options. Contractors that are unable to meet the established goal must provide the rational for the proposed level of subcontracting. In accordance with the Federal Acquisition Regulation (FAR) at Part 19.702 and HUD's own Federal acquisition regulation (HUDAR) at 2452.219-70, solicitations exceeding $500,000 that include HUDAR provision 2452.219-70, shall provide the maximum practicable subcontracting opportunities to small, small disadvantaged and women-owned businesses. Prior to award, each contract shall be evaluated on specific subcontracting goals and commitments to small businesses. These pioneering subcontracting policies also include subcontracting plans for General Services Administration schedule buys. There is a concentrated effort to conduct outreach with small businesses across the nation.

HUD OSDBU continuously performs at a level of professional excellence to serve our customers. HUD consistently formulates and implements written policies supporting small businesses and includes references to small businesses in standard operating procedures. HUD has designated a senior executive as the Director of the OSBDU who is responsible for implementing small business policy initiatives. Furthermore, HUD maintains an effective system to provide acknowledgement of procurement personnel that utilize 8(a) small businesses. HUD places a high priority on direct communications and outreach efforts; we utilize newsletters, facilitate trade show and marketplace presentations and conduct business assistance and training seminars. HUD is one of the most innovative governmental agencies and is constantly retrofitting its employment with the latest technologies to enhance service to small businesses. HUD constantly employs proactive strategies to increase opportunities for these businesses to serve as prime contractors and subcontractors. HUD has achieved phenomenal success in requiring prime contractors to establish measurable programs to increase subcontracting opportunities.

Publications:

• Small Business Resource Guide: www.hud.gov:80/offices/osdbu/resource/guide.cfm.

• Small Business Tips: www.hud.gov:80/offices/osdbu/tips.cfm.

• Forecast of Contracting Opportunities: www.hud.gov/offices/cpo/4cast.cfm.

Seminars and Classes:

• Outreach Calendar/Small Business Training: www.hud.gov/groups/smallbusiness.cfm.

Web based compliance:

• Brent Pick is HUD's Webmaster and updates all contract compliance issues on the Web. (303) 672-5281 ext. 1821 Brent_Pick@hud.gov.

Telephone Service:

• (202) 708-1428, Office of Small and Disadvantaged Business Utilization HUD Headquarters, Room 3130.

Future Activities:

• CD-Roms/Video.

• Online/E-mail Service.

On-Site Evaluation/Assistance:

• Office of Small and Disadvantaged Business Utilization, A. Jo Baylor, Director: HUD—Headquarters 451 7th Street, SW., Room 3130, Washington, DC 20410; E-mail: a.jo_baylor@hud.gov.

Housing and Urban Development Single Point of Contact: A. Jo Baylor, Director, Office of Small and Disadvantaged Business Utilization, HUD Headquarters 451 7th Street, SW., Room 3130, Washington, DC 20410. Telephone: (202) 708-1428. E-mail: a.jo_baylor@hud.gov.

Interior

Bureau of Land Management

Submit Permits and Reports Electronically: https://www.wispermits.org/.

How to File a Mining Claim: http://www.blm.gov/nhp/pubs/brochures/minerals/index.htm#Q3.

Minerals Management Service.

• “Dear Payor” Letters, Notices to Lessees, Small Refiner Program: http://www.mrm.mms.gov/RIKweb/SmallRefiners.htm.

Electronic Payment Information: http://www.mrm.mms.gov/ReportingServices/PDFDocs/fedwire.pdf.

Regulations governing collecting, accounting for and distributing revenues associated with mineral production from leased Federal and Indian lands: http://www.mrm.mms.gov/Laws_R_D/FRNotices/FRHome.htm.

Regulations governing leasing and operations on the Federal offshore: http://www.mms.gov/offshore/Regulations.htm.

Workshops to explain more complex regulations: Available at various locations around the country.

Training on how to report royalty revenue and related information: Available at various locations around the country.

Bureau of Reclamation

Statute, regulations, Reclamation Reform Act (RRA) Fact Sheets, RRA forms & instructions, and Status of Irrigation Districts List: http://www.usbr.gov/rra/.

Explanations of the most common Reclamation Reform Act questions and issues in plain English: www.usbr.gov/rra and at the Reclamation District offices in all irrigation districts.

Fish and Wildlife Service

General Compliance Guidance: http://pdm.fws.gov/sba/sbindex.html.

Compliance Guidance for Wildlife Import and Export License Holders: http://www.le.fws.gov/PublicBulletin.htm.

Non-Retaliation Policy: http://policy.fws.gov/do142.html.

Outreach Presentations for the Import/Export Community: http://www.le.fws.gov/inspectors.htm.

Courses on Conservation, Grantwriting, Conservation Partnerships, Developing and Working with Friends Groups, and Other Topics: http://training.fws.gov/.

Assistance for Importers and Exporters, Taxidermists, Guides and Outfitters: http://www.le.fws.gov/inspectors.htm.

FWS Publications Online: http://library.fws.gov/pubs3.html.

Office of Surface Mining

Applicant Violator System: http://www.avs.osmre.gov/.

Small Operator Assistance Program: http://www.osm.gov/soap.htm.

Copies of OSM Forms: http://www.osm.gov/forms.htm.

Policies and Guidance: http://www.osm.gov/policy.htm.

Department of the Interior Single Point of Contact: John Strylowski, U.S. Department of the Interior, MS 7229 MIB, Washington, DC 20240. Telephone: (202) 208-3071. Fax: (202) 219-2100. E-Mail: john_strylowski@ios.doi.gov.

Justice

Office of Small and Disadvantaged Business Utilization (OSDBU). The Office of Small and Disadvantaged Business Utilization (OSDBU) strives to improve and increase the Department's performance in utilizing small, small disadvantage, small woman-owned and veteran-owned businesses as contractors and subcontractors. Our various bureaus spend approximately two billion dollars a year in the private sector. Currently, more than 42 percent of those dollars go to small businesses, with 10 to 15 percent going to minority-owned firms and 3 to 5 percent going to woman-owned companies.

The OSDBU Director and the Deputy Attorney General are committed to encouraging and assisting well-qualified and skillful small, minority, and woman-owned businesses seeking contracts with the Department of Justice. The acquisition function in the Justice Department has been assigned to each of our bureaus' contracting staffs, most of which are located in the metropolitan Washington, DC area. We have prepared several avenues to assist small and disadvantaged businesses in getting better acquainted with the requirements and procurement practices of the bureaus.

Information on DOJ's initiatives and activities is available on the DOJ Small Business Web site: http://www.usdoj.gov/jmd/osdbu. This site links to the Small Business home page, which provides extensive small business assistance information including registration for the monthly vendors outreach sessions which provides the opportunity for one-on-one meetings with small business specialist and contracting officers.

Seminars/Conferences/Outreach Sessions: http://www.usdoj.gov/jmd/osdbu/index.html.

OSDBU Contact: Ramona Johnson-Glover, Acting Director, OSDBU, 1331 Penn Ave. NW., National Place Bld., Suite 1010, Washington, DC 20530. Telephone: (202) 616-0521 or 1-800-345-3712. Fax: (202) 616-1717. E-Mail: Ramona.M.JohnsonGlover@USDOJ.gov.

Bureau of Alcohol, Tobacco, Firearms and Explosives (ATF)

Publications of benefit or interest to ATF industry members and the general public (i.e., firearms and explosives regulations, newsletters, rulings, press releases, statistics and State & local training courses, Federal law and regulations, State laws and published ordinances, and Federal Register notices.)

• Theft/losses of explosives materials: 1-888-ATF-2662.

• Toll free for reports of gun related crimes and after hours theft/losses: 1-800-ATF-GUNS.

• Toll free for theft/losses of firearms: 1-800-800-3855.

• ATF Firearms and Explosives Compliance Web Site: www.atf.gov.

The ATF provides various publications to our industry members as well as the general public. Some of the publications available either on ATF Web site or in hard copy, include manuals which provide ATF's regulatory requirements in a plain language format; informational brochures to help raise awareness of possible criminal activity (i.e., Reporting theft of Explosives and Firearms, Arson incidents); and industry newsletters for all businesses regulated by ATF. Publications, brochures and forms are produced in quantities of 115,000 each for firearms and 12,000 for explosives, for distribution to the licensees, permittees, and to trade and research organizations and the press.

ATF hosts/participates in national, international, as well as regional/local conferences and meetings. In addition, ATF personnel are often invited by associations to attend their national conferences to give presentations on topics of interest to association members, and/or set up an exhibit booth. The ATF exhibit booth provides yet another venue through which industry members that attend these meetings, may ask questions or concerns regarding ATF policy or regulations.

ATF personnel have also been asked by industry associations as well as regulatory associations/agencies to participate on various panels. Recent topics on which the ATF has provided our expertise include but are not limited to, Safe Explosives Act, Shot Show University, Annual Importers Conference.

There are a number of application forms and reports required by ATF, some of which are now available on ATF's Web site www.atf.gov.

ATF Contact: Mary Jo Hughes, Chief, FEA Services Division, Office of Firearms, Explosives and Arson, Bureau of Alcohol, Tobacco, Firearms and Explosives, 650 Massachusetts Avenue, NW., Washington, DC 20226. Telephone: (202) 927-8045. Fax: (202) 927-7488.

Civil Rights Division (CRT)

CRT—Disability Rights Section (DRS). Information:

• Home Page: www.usdoj.gov/crt/ada/adahom1.htm.

• Business Page: http://www.usdoj.gov/crt/ada/business.htm.

The home page provides information about the toll-free ADA Information Line, the Department's ADA enforcement activities, the ADA technical assistance program, certification of State and local building codes, proposed changes in ADA regulations and requirements, and the ADA mediation program. The home page also provides direct access to ADA regulations and technical assistance materials, Freedom of Information Act materials, links to the Department's press releases, and links to the other Federal agencies' Internet home pages that contain ADA information. ADA. The Web site received over one million visitors during FY 2003.

ADA Guide for Small Business: http://www.usdoj.gov/crt/ada/smbusgd.pdf.

ADA Information Line. DRS operates a toll-free ADA Information Line to provide information to the public about the requirements of the ADA and to distribute technical assistance publications to the public. Automated service is available 24 hours a day, seven days a week. During business hours, members of the public can consult with Department staff for assistance in applying ADA requirements to their own specific situation. The ADA Information Line numbers are (800) 514-0301 (voice); (800) 514-0383 (TTY). During FY 2003, the Information Line received 120,000 calls.

ADA Fax on Demand. The ADA Information Line Fax Delivery Service allows the public to obtain free ADA information by fax 24 hours a day, seven days a week. By calling the ADA Information Line, callers can select from among 32 different ADA technical assistance publications and receive the information, usually within minutes, directly on their fax machines or computer fax/modems. ADA Information Line: 800-514-0301 (voice); 800-514-0383 (TTY).

ADA publications. DRS produces a range of technical assistance documents, including an ADA Guide for Small Businesses that has been published jointly with the Small Business Administration. ADA. During FY 2003, the Department developed 41 new technical assistance materials, including five publications on specific topics of interest to businesses that can be printed and distributed directly from the Web addressing the issues of service animals, restriping parking lots, refueling assistance at gas pumps, communicating with people who are deaf or hard of hearing in hospital settings, and communicating with people who are deaf or hard of hearing in hotels, motels, and other places of transient lodging.

ADA training. DRS provides ADA training at meetings nationwide; and conducts outreach to broad and targeted audiences that have included mayors, local Chambers of Commerce, and millions of businesses. Requests for speakers and training should be placed through the ADA Information Line: 800-514-0301 (voice); 800-514-0383 (TTY). During 2003, the Department fulfilled 60 training, speaking, and exhibit engagements.

ADA Mediation Program. The Department's ADA Mediation Program facilitates compliance by entities, including small businesses, using a voluntary alternative dispute resolution approach. Carried out through a partnership between the Federal government and the private sector, more than 450 professional mediators are available nationwide to mediate ADA cases. In FY 2003, 188 complaints with businesses were resolved successfully through the ADA Mediation Program. To date in FY 2004, the Department has referred an additional 144 cases to the mediation program.

CRT—Office of Special Counsel for Unfair Immigration Related Employment Practices (OSC). OSC's Internet site has helpful information specifically designed for businesses as well as workers. The site describes the legal obligations of employers to comply with the anti-discrimination provision of the Immigration and Nationality Act (INA) and provides other information to assist compliance (such as brochures, booklets, frequently asked questions, and legal references). In FY 2003, the OSC Web site had more than 386,000 new and recurring page visitors. The site is at http://www.usdoj.gov/crt/osc. In April, OSC published a newsletter, “OSC Update,” which provides an update of OSC's outreach and enforcement activities, and highlights OSC's informal resolution program.

OSC Employer Hotline. OSC has a national toll-free telephone line solely for the use of employers who wish to consult with OSC staff members about their compliance concerns. The telephone line is staffed by OSC attorneys and Equal Opportunity Specialists who promptly address employers' questions, providing immediate guidance. OSC staff often advise employers on how to avoid discrimination in the workplace, minimizing any future liability. Voice: 1-800-255-8155; TDD: 1-800-362-2735.

OSC Job Applicant or Employee Hotline. Based on information received from individuals calling this line, and OSC's prompt investigation of these cases, OSC often is able to bring early, efficient, cost-effective resolutions to employment disputes that might otherwise result in the filing of charges, the accumulation of potential back pay awards, or litigation expenses. These early interventions minimize the impact of statutory enforcement on small businesses. Voice: 1-800-255-7688 or (202) 616-5525; TDD: 1-800-237-2515. The OSC processed over 18,580 calls to its employer and employee hotlines in FY 2003.

OSC Training Materials. OSC also provides employers, where necessary, with training materials for their staff, including booklets, posters and educational videotapes, on how to ensure that they do not engage in discriminatory behavior. The employer hotline number is distributed with all of OSC's outreach materials for employers. Voice: 1-800-255-8155; TDD: 1-800-362-2735; E-mail Address: osccrt@usdoj.gov Download Brochures and Booklets: http://www.usdoj.gov/crt/osc/htm/outreach.htm Based on FY 2003 levels, the OSC expects to disseminate over 100,000 copies of its brochures and booklets free of charge during FY 2004.

Compliance Assistance Education. OSC takes part in numerous employer training sessions throughout the country, providing employers guidance on how they can comply with the antidiscrimination provisions of the immigration laws. OSC attorneys also conduct outreach seminars across the country that are organized by OSC grantees and specifically designed to address issues of concern to employers. OSC routinely provides compliance assistance training and other guidance to employers that OSC determined committed unlawful discrimination to ensure that such violations do not recur. Voice: 1-800-255-8155; TDD: 1-800-362-2735; E-mail Address: osccrt@usdoj.gov. In FY 2003, OSC officials conducted 83 such presentations.

OSC Grants. In addition to the direct outreach activities of its own staff, OSC provides grants to employer associations (such as chambers of commerce) and other entities to allow those organizations to conduct further compliance assistance among their members and constituents. In FY 2003, OSC's grantees presented information about INA compliance at hundreds of events that were attended by thousands of employers and workers and distributed thousands of copies of OSC's brochures and booklets. There are 11 OSC grantees operating across the country in FY 2004. Grants totaled almost $675,000. Press Statement: http://www.usdoj.gov/crt/osc/press/30814grantees.pdf.

OSC Assistance to SBA's Small Business Development Centers. To improve its outreach and service to the small business community, OSC contacted the SBA's Office of Small Business Development Centers (OSBDC) and the Association of Small Business Development Centers (ASBDC) and offered to provide training and information materials, assistance with training events, and technical guidance to the SBDC networks across the county. There are more than 1,000 SBDC centers and subcenters that provide low-cost counseling and training to small businesses. The SBDCs are generally receptive to providing INA compliance information to their small business clients, and OSC expects to cultivate this partnership in 2004 and future years. OSC will soon roll out a small business resource page on its Web site.

OSC address and phone numbers: Office of Special Counsel for Immigration Related Unfair Employment Practices, Civil Rights Division Department of Justice, Post Office Box 27728, Washington, DC 20038-7728. Telephone: 202-616-5594.

OSC Employer Hotline: Voice: 1-800-255-8155. TDD: 1-800-362-2735.

Civil Rights Division, General Point of Contact: David K. Flynn, Chief, Appellate Section, P.O. Box 66078, Washington, DC 20035-6078. Telephone: 202-514-2195. Fax: 202-524-8490. Please note that Mr. Flynn is not assigned either to the Disability Rights Section (DRS) or to the Office of Special Counsel (OSC). General small business inquiries for information or for assistance concerning compliance with matters within the areas of responsibility of DRS or OSC should be directed to the addresses and phone numbers in the respective sections.

Drug Enforcement Administration

DEA's Office of Diversion Control (OD) is the internal office that has oversight over and works with small businesses. As such, OD and Diversion field personnel continuously review ways in which the DEA can ensure small businesses have access to SBREFA material as well as improve upon current outreach initiatives.

OD Web Site. The Office of Diversion Control's Web site (http://www.DEAdiversion.usdoj.gov) contains information specifically relating to DEA's Diversion Program. Between January 1 and October 31, 2003, DEA's entire Diversion Control Program Web site was visited 1,047,968 (an average of 4,463 visits per day). Below are some of the Web pages that were visited and the number of times they were viewed

Publications. DEA provides various publications to its registrant population as well as the general public. Some of the publications available either on Diversion's Web site or in a hard copy, include registrant manuals which provide DEA's regulatory requirements in a plain language format; the SBREFA Advisory Notice; informational brochures to help raise awareness of possible criminal activity (i.e., a Pharmacist's Guide to Prescription Fraud, Recognizing the Drug Abuser, Drug Addiction in Healthcare Professionals, and Stimulant Abuse by School Age Children); industry newsletters; press releases; and program reports. www.DEAdiversion.usdoj.gov/pubs/index.html.

For those small businesses that do not have access to the Internet, the DEA provides contact telephone numbers for Diversion Headquarters and field personnel as well as the SBA Ombudsman in the back of hard bound copies of the registrant manuals.

Requests for information or reports should be mailed to: Drug Enforcement Administration, Office of Diversion Control, Washington, DC 20537

Small Business Regulatory Fairness Advisory: www.DEAdiversion.usdoj.gov/pubs/fair_adviz.htm. This notice advises DEA registrants to contact DEA Field Offices if they have any questions regarding DEA's regulations and policies. If they are a small business, they may contact the SBA's Office of the Ombudsman to comment on DEA's enforcement actions. This Advisory is also included in all revised and new manuals.

Seminars/Classes:

• Chemical training for importers/exporters: www.DEAdiversion.usdoj.gov/mtgs/dea_mtgs.html.

• Pharmaceutical Training Seminars for importers/exporters and manufacturers: www.DEAdiversion.usdoj.gov/mtgs/dea_mtgs.html, www.DEAdiversion.usdoj.gov/quotas/index.html.

Web-Based Compliance:

• A wide variety of online forms: http://www.DEAdiversion.usdoj.gov/online_forms.htm.

Onsite Evaluation/ Assistance:

• List of local field offices: www.DEAdiversion.usdoj.gov/offices_n_dirs/index.html.

Meetings/Conferences. DEA hosts national as well as regional/local conferences and meetings. In addition, Diversion personnel are often invited by associations to attend their national conferences to give presentations on topics of interest to association members, and/or set up an exhibit booth. www.DEAdiversion.usdoj.gov/mtgs/dea_mtgs.html.

Toll Free Telephone Numbers. Contact information for Diversion Control Program personnel located at DEA Headquarters and local field offices may be viewed at the following Web address: http://www.deadiversion.usdoj.gov/offices_n_dirs/index.html.

Summary of DOJ Contact Information

DRS address and phone number: Disability Rights Section, Civil Rights Division, and P.O. Box 66738, Washington, DC 20035-6738. Telephone: (202) 307-0663. Fax: (202) 307-1198.

ADA Information Line. 800-514-0301 (voice). 800-514-0383 (TTY)

Drug Enforcement Administration Contact (for regulatory and enforcement matters: Patricia Good, Chief, Liaison and Policy Section, Office of Diversion Control, Drug Enforcement Administration, Washington, DC 20537. Telephone: (202) 307-7297. Fax: (202) 307-8570.

Justice Department contacts for Department-wide matters (such as the Ombudsman's Reports to Congress) and other issues of general agency concern: Kevin R. Jones, Deputy Assistant Attorney General, Office of Legal Policy, Department of Justice, Main Building, Room 7238, 950 Pennsylvania Avenue, NW., Washington, DC 20530. Telephone: (202) 514-4604. Fax: (202) 514-9112. E-mail: Kevin.r.jones@usdoj.gov.

Robert Hinchman, Senior Counsel, Office of Legal Policy, Department of Justice, Main Building, Room 7236, 950 Pennsylvania Avenue, NW., Washington, DC 20530. Telephone: (202) 514-8059. Fax: (202) 514-9112. E-mail: robert.hinchman@usdoj.gov.

Justice Department contact for general public affairs inquiries: Mark Corallo, Director, Office of Public Affairs, Main Building, Room 1248, 950 Pennsylvania Avenue, NW., Washington, DC 20530. Telephone: (202) 514-2007. Fax: (202) 513-5331. E-mail: Mark.Corallo@usdoj.gov.

Justice Department contact for small and disadvantaged business utilization: Ramona Johnson-Glover, Acting Director, OSDBU, 1331 Penn Ave. NW., National Place Bld., Suite 1010, Washington, DC 20530. Telephone: (202) 616-0521. Fax: (202) 616-1717. E-mail: Ramona.M.JohnsonGlover@USDOJ.gov.

Justice Department single point of contact. Brenda Dyer, Policy and Planning Staff, Justice Management Division, Patrick Henry Building, Room 1600, Washington, DC 20530. Telephone (202) 616-1167. Fax: (202) 514-1590. E-mail: brenda.e.dyer@usdoj.gov.

Labor

The U.S. Department of Labor (DOL) recognizes its obligation to respond to the ever-increasing complexities of employment laws and the difficulties businesses face in understanding them. Secretary of Labor Elaine L. Chao launched the Compliance Assistance Initiative to help America's employers and employees better understand how to comply with the federal employment laws and regulations it administers. DOL believes compliance assistance is the most effective way to protect the wages, health benefits, retirement security, safety, and health of America's workforce by preventing employment law violations.

DOL has developed the following tools and resources to ensure that employers and workers have access to clear and accurate information and assistance—when and where they need it, and in the format that suits them best.

Department of Labor Web Site. The most widely used compliance assistance tool is the DOL Web site, which features centralized compliance assistance information at www.dol.gov/compliance. The public can use this site to access a wide range of information and resources about DOL's rules and regulations any time, day or night. These Web pages are gateways to DOL agencies' compliance assistance information.

elaws Advisors. The elaws Advisors (Employment Laws Assistance for Workers and Small Businesses) are interactive e-tools that provide information on DOL's Federal employment laws. Available at www.dol.gov/elaws, each elaws Advisor mimics the interaction an individual would have with a DOL employment law expert by generating answers based on the user's responses to a set of questions. The FirstStep Employment Law Advisor—one of the newest elaws Advisors—helps employers simply and quickly determine which of DOL's major employment laws apply to their business or organization and provides easy-to-access information about how to comply with each law's requirements.

Toll-Free Help Line. The DOL toll-free help line is 1-866-4-USA-DOL (1-866-487-2365); (TTY: 1-877-889-5627). DOL's Toll-Free Help Line provides timely and accurate responses to customer inquiries, and fulfills print and publication requests. The Help Line offers live operator assistance in English and Spanish, with additional service in more than 140 languages.

Employment Law Guide. The Employment Law Guide, which describes DOL's major statutes and regulations in plain language, targets employers needing introductory information to develop wage, benefit, safety and health, and nondiscrimination policies for their businesses. It is available for free in print and online, in both English and Spanish. A complimentary copy can be obtained by calling 1-866-4-USA-DOL or by visiting www.dol.gov/asp/programs/guide.htm.

E-Mail Response Service. DOL's coordinated e-mail response service allows employers and employees to ask questions about employment and regulatory issues electronically. By choosing from a list of topics or internal DOL agencies under the “Contact Us” section of the DOL Web site (www.dol.gov), users are ensured that their question will go to the appropriate office and that they will receive an answer in a timely manner.

Compliance Assistance Information Inventory. More than 300 publications are included in this comprehensive list of DOL compliance assistance resources. This database of publications can be accessed from www.dol.gov/compliance. (To be available in May, 2004.)

SBREFA Toll-Free Help Line. Under the Small Business Regulatory Enforcement Fairness Act of 1996, small businesses may contact DOL's Office of Small Business Programs (OSBP) directly with their inquiries or complaints about regulatory fairness by calling 1-888-9-SBREFA (1-888-972-7332).

Wage and Hour Issues. The Employment Standards Administration, Wage & Hour Division (WHD) enforces the minimum wage, overtime, and child labor provisions of the Fair Labor Standards Act (FLSA), the Family and Medical Leave Act (FMLA), the Migrant and Seasonal Agricultural Worker Protection Act (MSPA), employment standards and worker protections provided in several non-immigrant worker programs of the Immigration and Nationality Act, and the prevailing wage requirements of the Davis-Bacon Act (DBA), the Service Contract Act (SCA) and related statutes.

WHD delivers compliance assistance through its Web site, interactive elaws Advisors (FLSA, FMLA), toll-free phone service, e-mail, printed materials, workshops and presentations.

• WHD on the Web: www.wagehour.dol.gov.

• WHD Contact Information: www.dol.gov/esa/contacts/whd/america2.htm.

• Telephone Number: 1-866-4USWAGE (1-866-487-9243).

Federal Contract Compliance. The Employment Standards Administration, Office of Federal Contract Compliance Programs (OFCCP) administers three equal employment opportunity programs that apply to Federal contractors and subcontractors: Executive Order 11246, as amended; Section 503 of the Rehabilitation Act of 1973, as amended; and the Vietnam Era Veterans' Readjustment Assistance Act of 1974, as amended, 38 U.S.C. 4212. These laws prohibit Federal contractors and subcontractors from discriminating in employment decisions on the basis of race, color, religion, sex, national origin, disability, or protected veteran status. These laws also require Federal contractors and subcontractors to take affirmative action to ensure equal employment opportunity. OFCCP also shares responsibility with the U.S. Equal Employment Opportunity Commission (EEOC) in enforcing Title I of the Americans with Disabilities Act.

OFCCP delivers compliance assistance through its Web site, interactive elaws Advisors, e-mail, toll-free telephone service, workshops and seminars.

• OFCCP on the Web: www.dol.gov/esa/ofccp.

• OFCCP Contact Information: http://www.dol.gov/esa/contacts/ofccp/ofcpkeyp.htm.

• Telephone Number: 1-202-693-0101.

Retirement and Health Benefits. The Employee Benefits Security Administration (EBSA) assists employers and employee benefit plan practitioners in understanding and complying with the requirements of the Employee Retirement Income Security Act (ERISA) as it applies to administering retirement and health benefit plans. EBSA promotes voluntary compliance through its Voluntary Fiduciary Correction Program and Delinquent Filer Voluntary Compliance Program and through strategic alliances with professional organizations and federal, state and local governments. EBSA provides compliance assistance through its Web site, publications, interactive elaws Advisors, toll-free telephone service as well as responding to electronic inquiries, sponsoring seminars, and actively conducting outreach nationwide.

• EBSA on the Web: http://www.dol.gov/ebsa/.

• EBSA Contact Information for Electronic Inquiries: www.askebsa.dol.gov.

• Telephone Number: 1-866-444-3272.

Occupational Safety and Health

The Occupational Safety and Health Administration (OSHA) works to save lives, prevent injuries and protect the health and safety of America's workers. Nearly every worker in the U.S. comes under OSHA's jurisdiction as defined by the Occupational Safety and Health Act of 1970 (exceptions include miners, transportation workers, many public employees, and the self-employed).

OSHA delivers compliance assistance through its Web site, printed compliance guides, toll-free telephone service, e-mail, and online electronic assistance tools such as eTools and Safety and Health Topics pages. Free workplace consultations are available in every state to small businesses that need assistance in establishing safety and health programs and identifying and correcting workplace hazards. A network of OSHA Compliance Assistance Specialists in local offices provides tailored information and training to employers and employees. OSHA has a number of cooperative programs that help recognize and build on successful practices in occupational safety and health, including the Alliance Program, Safety and Health Achievement Recognition Program (SHARP), Strategic Partnership Program, and Voluntary Protection Programs (VPP).

• OSHA on the Web: www.osha.gov.

• Telephone: 1-800-321-OSHA (1-800-321-6742).

• OSHA Contact Information: www.osha.gov/html/oshdir.html.

Mine Safety and Health

The Mine Safety and Health Administration (MSHA) works to protect the health and safety of workers in America's mines by working cooperatively with industry, labor, and other federal and state agencies. MSHA's responsibilities are outlined in the Federal Mine Safety and Health Act of 1977, commonly called the Mine Act, which applies to all mining and mineral processing operations in the U.S. regardless of size, number of employees or method of extraction.

MSHA delivers compliance assistance to mine operators and workers through its Web site and by direct contact of agency enforcement, technical support, and education and training field personnel. MSHA established its Small Mine Office to address the safety and health needs of small mines specifically and to enable small mines to comply with safety and health laws as readily as medium-or large-sized mines. The Small Mine Office focuses exclusively on compliance assistance and conducts no enforcement activities.

• MSHA on the Web: www.msha.gov.

• MSHA Contact Information: www.msha.gov/contactmsha/contactmsha.htm.

• Telephone Number: 1-202-693-9400.

Veterans' Employment and Training

The Veterans' Employment and Training Service (VETS) helps veterans, Reservists and National Guard members effectively prepare for and secure employment, and protects their employment rights. VETS provides employment services and training assistance to eligible veterans, including homeless veterans, through grants to States, local governments and non-profit organizations. VETS also administers the Uniformed Services Employment and Reemployment Rights Act (USERRA) and provides information about veterans' rights under the Veterans Employment Opportunities Act (VEOA) and the Federal Contractor Program, which requires Federal contractors and subcontractors to take affirmative action to hire and promote qualified veterans including special disabled veterans.

VETS delivers compliance assistance through its Web site, printed materials, e-mail, and interactive online elaws Advisors.

• VETS on the Web: www.dol.gov/vets.

• VETS Contact Information: www.dol.gov/vets/aboutvets/contacts/main.htm.

• Telephone Number: 1-202-693-4700.

Labor-Management Standards

The Employment Standards Administration, Office of Labor-Management Standards (OLMS) administers and enforces most of the Labor-Management Reporting and Disclosure Act (LMRDA) of 1959. OLMS also administers provisions of the Civil Service Reform Act of 1978 and the Foreign Service Act of 1980 relating to standards of conduct for Federal employee unions. OLMS also administers employee protection provisions in the Federal mass transit law. OLMS now administers Executive Order 13201 in conjunction with the Office of Federal Contract Compliance Programs. EO 13201 requires Federal contractors to post notices informing their employees of certain rights related to union membership and payment of union dues or fees.

OLMS delivers compliance assistance through its Web site, publications, e-mail, workshops and other group presentations. An OLMS Web site— www.union-reports.dol.gov—lets users view and print union annual financial reports. It features a powerful data search system that can produce lists tailored to users' needs. OLMS recently expanded the site to let users view and print reports by employers and labor relations consultants.

• OLMS on the Web: www.olms.dol.gov.

• OLMS Contact Information: www.dol.gov/esa/contacts/olms/lmskeyp.htm.

• Telephone: 1-202-693-0123 (union member rights); 1-202-693-0126 (transit employee protections).

Department of Labor Single Point of Contact: Under the Small Business Paperwork Relief Act of 2002, the Department of Labor has established a single point of contact in the agency to act as a liaison between the agency and small business concerns: Barbara Bingham, Director, Office of Compliance Assistance Policy, Office of the Assistant Secretary for Policy, U.S. Department of Labor, 200 Constitution Avenue, NW., Rm. S2312, Washington, DC 20210. Telephone: (202) 693-5080.

State

• Compliance Assistance Resources: www.state.gov/m/a/sdbu.

• Compliance assistance: http://www.state.gov/m/a/sdbu/c9124.htm.

The Office of Small and Disadvantaged Business Utilization (OSDBU) Web page links to a number of Federal agencies: www.osdbu.gov.

• Publications: A Guide to Doing Business with State Department. Forecast of Contract Opportunities and others are available electronically on the Web page.

• Workshops: State/OSDBU presents a number of workshops throughout the year as part of its outreach efforts. These workshops include “in reach” to our State Department customers and cover topics related to the Small Business Program. State/OSDBU staff members are often invited to participate on workshops or panels hosted by small business trade associations, Chambers of Commerce or other groups representing the interests of small business.

• Training Sessions: We sponsor training sessions for State Department employees. Examples: Small Business Program training module at Foreign Service Institute's GSO Course. Participation in regional GSO Conferences hosted by State's Office of Logistics Management. (e.g., New Delhi, India and Gaborone, Botswana in 2002). Also participate in State Department events designed for private industry such as Bureau of Overseas Buildings Operation's Industry Day. State hosts an annual Prime Contractor training session. The morning is a refresher for large primes on regulations and reporting requirements governing subcontracting. The afternoon session is for networking between large primes and “hot prospect” small businesses.

• Small Business Fairs: State/OSDBU hosts an annual Small Business Fair, which features “common usage” items typically purchased using the government credit card or GSA schedule. In November 2002, we hosted a Veteran-owned Small Business Conference. We are also co-hosts of quarterly Information Technology Expositions, for which the Bureau of Information Resource Management takes the lead. We co-sponsor with other Federal OSDBUs an annual conference each April, at Show Place Arena in Upper Marlboro, Maryland. This year's event, held on April 23rd, attracted over 1500 participants from all over the country. State/OSDBU also supports Small Business Fairs hosted by other Federal agencies, by small business trade associations, or by members of Congress. During FY 2002 to date, we have participated in over 30 such events.

State Department Single Point of Contact: Gregory K.O. Davis, Telephone: (202) 312-9607. Regulatory Coordinator Fax: (202) 312-9603. A/RPS/DIR, 1800 G Street, NW., Suite 2400, SA-22, Washington, DC 20522-2201. Internet: http://www.state.gov/m/a/dir/ and http://foia.state.gov/famdir/fam/fam.asp.

Transportation

Web-based Compliance: Office of Small & Disadvantaged Business Utilization, http://osdbuweb.dot.gov.

Drug and Alcohol Policy and Compliance: www.dot.gov/ost/dapc.

Telephone: Small Business Customer Service Center, 1-800-532-1169.

Office of Drug Enforcement and Program Compliance (DEPC): 1-800-225-3784 (fax on demand service).

Seminars/Classes: Transportation Marketplace Conferences, http://osdbuweb.dot.gov.

Breath Alcohol Technician Training and Screening, Test Technician Training Manuals: Transportation Safety Institute, Telephone (405) 949-0036, x323. Marti Bludworth, DTI-100, 4400 Will Rogers Parkway, Suite 205, Oklahoma City, OK 73108.

Online/e-mail Service News by E-mail: http://osdbuweb.dot.gov.

Central Docket Management System: http://dms.dot.gov.

Office of Aviation Analysis: http://ostpxweb.dot.gov/aviation/index.html.

Drug and Alcohol Policy and Compliance Program Guidance Material: www.dot.gov/ost/dapc/prog_guidance.html.

Online purchases and payments: www.Diy.dot.gov.

Publications: The Transportation Link Newsletter; Marketing Information Package, Fax on Demand Catalog. Telephone 1-800-532-1169. http://osdbuweb.dot.gov.

Federal Highway Administration

Web-based Compliance: www.fhwa.dot.gov.

Publications: Citizens Guide to Transportation Decisionmaking; National Dialogue on Operations; An Overview of Transportation and Environmental Justice; Transportation Conformity, A Basic Guide for State and Local Officials, Revised 2000; A Guide to Metropolitan Planning Under ISTEA, How the Pieces Fit Together; Federal Size Regulations for Commercial Motor Vehicles; and Bridge Formula Weights (all the above are available at the Web site).

Federal Aviation Administration

Web-based Compliance: www.faa.gov/avr/arm/sbrefa.htm.

E-mail Service: 9-AWA-SBREFA@faa.gov.

Telephone Service: 1-888-551-1594 or 1-800-255-1111 (Safety Hotline).

On-site Assistance: Charlene Brown, 800 Independence Ave., SW., Room 808, Washington, DC 20591.

Bureau of Transportation Statistics

Web-based Compliance: www.bts.gov/mcs/desc.html; http://www.fmcsa.dot.gov/factsfigs/dashome.htm (See Table of Contents Financial and Operating Statistics); and http://www.bts.gov/oai/sources (Office of Airline Information).

E-mail Service: answers@bts.gov.

Telephone Service: 1-800-853-1351 (General Information), and 1-202-366-4888 (public data from air carrier reports).

Publications: Worksheet for Calculating Carrier Classification (Motor Carriers of Passengers); Worksheet for Calculating Carrier Classification (Motor Carriers of Property); Information Sheet for Form QFR and many others available through the Web site.

On-site Assistance: Bureau of Transportation Statistics, 400 7th Street, SW., Room 3103, Washington, DC, L'Enfant Plaza Metrorail Station (7th and D Street exit).

Reports Reference Facility (public data from air carrier reports): 400 7th Street, SW., Room 4201, Washington, DC.

Federal Railroad Administration

Web-based Compliance: www.fra.dot.gov.

Telephone Service: (202) 493-6395 (Office of Policy & Program Development).

Federal Transit Administration

Web-based Compliance: www.fta.dot.gov.

Telephone Service: 1-800-527-8279 (National Transit Resource Center).

Publications: www.fta.dot.gov/library.

Federal Motor Carrier Safety Administration

Web-based Compliance: www.fmcsa.dot.gov and www.1-888-dot-saft.com.

Telephone Service: 1-800-832-5660 (Information Line), 1-800-368-7328 (Consumer complaint hotline), (202) 366-9805 (Licensing Information), (202) 385-2423 (Insurance Information).

National Highway Traffic Safety Administration

Web-based compliance: www.nhtsa.dot.gov.

Telephone Service: 1-800-DASH-2-DOT (1-800-327-4236).

Publications: http://www.nhtsa.dot.gov/people/outreach/media/catalog/Index.cfm(Online publications library).

Maritime Administration

Web-based Compliance: www.marad.dot.gov.

Telephone Service: (202) 366-4610 (Cargo Preference Program), (202) 366-8888 (Intermodal Development), (202) 366-8887 (Environmental Activities), (202) 366-1931 (Maritech Program), (202) 366-5744 (Maritime Loan Guarantee), (202) 366-1931 (National Maritime Resource and Education Center), (202) 366-4610 (Ocean Freight Differential), (202) 366-2324 (Operating Differential Subsidy), (202) 366-2625 (Ship Operation Cooperative Program), (202) 366-2400 (War Risk Insurance Program), and (202) 366-5821 (Vessel Transfer Program).

Publications: www.marad.dot.gov/publications (online library).

Research and Special Programs Administration

Web-based Compliance: www.rspa.dot.gov; http://hazmat.dot.gov; and http://ops.dot.gov.

Telephone Service: (202) 366-4595 (Office of Pipeline Safety), 1-800-HMR-4922 or (202) 366-4488 (Hazardous Materials Information Center), (202) 366-4900 (Office of Hazardous Materials Initiatives and Training), (202) 366-4484 (Hazardous Materials Incident Reports).

Fax Service: 1-800-467-4922 (Hazardous Materials fax on demand) and 202-366-4566 (Office of Pipeline Safety fax).

E-mail Service: Grants@rspa.dot.gov, Infocntr@rspa.dot.gov, Register@rspa.dot.gov, Training@rspa.dot.gov, Welisten@rspa.dot.gov.

Seminars/Classes: Transportation Safety Institute (Compliance Inspection Comprehensive Operator Qualification, OPS); Risk Management Conference/Public Meeting Proceedings (Hazmat and OPS) www.tsi.dot.gov.

Publications: Pipeline Risk Management Newsletter, Oil Pollution Act Newsletter, and Hazmat Safety Alerts.

Department of Transportation Single Point of Contact: Steven B. Lott, Manager, Strategic Integration, IT Program Management, U.S. Department of Transportation, 400 Seventh Street, SW., Washington, DC 20590. Telephone: (202) 366-1314. Fax: (202) 366-7373. http://cio.ost.dot.gov/contact/index.html.

Treasury

Office of Small Business Development. Our Office of Small Business Development (http://www.treas.gov/sba) has a robust small business program to ensure both small business prime and subcontracting opportunities. The following examples, initiatives, and partnerships demonstrate Treasury's commitment:

Outreach Efforts:

• Maintain a vigorous small business procurement Web site (http://www.treas.gov/sba).

• Treasury's annual forecast of contract opportunities and small business subcontracting opportunities directory are posted on the small business Web site, and we make hard copies available upon request and at all of the small business outreach events we attend.

• Our highly successful Treasury Monthly Vendor Outreach Session program allows small businesses to meet with Treasury bureau small business specialists. We also include special guests representing other Federal agencies or prime contractors to discuss procurement opportunities on a pre-arranged 15-minute basis in one central location. Our schedule is published a year in advance to allow small business to plan their marketing efforts.

• Treasury's outreach efforts also include two Treasury IT Program Manager Vendor Outreach Session events each year (this event is modeled after our Monthly Vendor Outreach Session).

• In Treasury's capacity as Chair of the OSDBU Directors Interagency Council outreach committee, we have taken the lead on the government-wide Annual OSDBU Directors Procurement Conference held in April of each year. This event is also posted on our Web site.

• We have also focused our efforts in targeted outreach on a nationwide basis, such as trade fair participation, seminar presentations, panel program discussions on specific topics, and one-on-one counseling.

• The OSBD has built a solid relationship with a variety of small business trade associations. On April 12, 2000, Treasury entered into an historic Memorandum of Understanding with 17 small, minority, and women-owned small business trade associations to increase the ability of small minority and women-owned small businesses to compete for Treasury procurements in industries reflecting under-representation while maintaining participation in industries with successful utilization.

• A list of the Top 25 Treasury purchases is published, listed by industry classification over a five year period to provide an opportunity for “targeted outreach”.

• Treasury implemented a mentor-protégé pilot program. We are the only agency in which protégés may be small businesses of all types—SB, SDB, WOSB, HUBZSB, SDVOSB, and VOSB.

Internal Revenue Service

I. Compliance Assistance Resources (Paperwork Relief Act Report).

The IRS Compliance Assistance Resources are those that help taxpayers comply with the Federal tax law. We are making every effort to inform, assist and educate taxpayers.

II. Points of Contact for IRS.

Single point of contact for Compliance Assistance Resources IRS Web site: http://www.irs.gov/businesses/index.html.

Single point of contact for Paperwork Relief Act of 2002. Michael Chesman Director Office of Taxpayer Burden Reduction. Phone: (202) 283-7673. E-mail: Michael.R.Chesman@irs.gov.

Compliance Assistance Program Description

a. The Small Business/Self-Employed (SB/SE) operating division is structured to best serve taxpayers whose needs are more complex than wage and investment taxpayers. This division serves about 40 million small businesses, including 33 million self-employed and 7 million corporations and partnerships with assets of $10 million or less. While many face the same tax issues as large corporations, they often do not have tax professionals on staff. Tax compliance issues often stem from a lack of understanding of tax law requirements, inadequate accounting practices and resources and cash flow problems.

The approximately 33 million self-employed and supplemental income earners are similar to wage and investment taxpayers, but their tax issues are often more complex. They have substantially higher incomes and file twice the number of forms and schedules, requiring more time to prepare taxes, a greater reliance on paid tax preparers and more IRS expertise.

i. Headquarters

Taxpayer Education and Communication's (TEC) mission is to support and accomplish the goals of the Strategic Plan. We increase filing, reporting, and paying compliance by providing small business and self-employed individuals with top quality pre-filing services. TEC's activities align with compliance goals and approaches set by other parts of the organization.

The field and headquarters staffs support compliance-focused pre-filing activities through direct dealings with small businesses and self-employed individuals and through third party relationships with key internal and external stakeholders. TEC works to develop and maintain partnerships with key stakeholders. The relationships are leveraged to assist in the delivery of targeted messages to specific audiences on specific compliance issues resulting in communications that reach a much larger taxpayer population.

TEC focuses on burden reduction initiatives and promotes electronic filing and payment options to SB/SE taxpayers. The services TEC provides assist in promoting compliance among small businesses and self-employed taxpayers through non-enforcement methods and help taxpayers understand their tax obligations in a manner that leads to voluntary compliance.

○ Partnership Outreach designs, develops and delivers educational products and services focused on customer needs, and leverage partnerships with major stakeholders through negotiated agreements to assist in the delivery of these products and services. The primary focus is on proactively identifying emerging trends, common errors, and common areas of non-compliance, and developing products, services and programs to address these issues and encourage compliance.

○ Business Marketing Services plans and execute the promotion and distribution of all traditional SB/SE products and services to TEC employees, key stakeholders, and targeted taxpayer audiences in order to satisfy external customer needs and internal organizational objectives. Business Marketing Services is also focused on developing strategies for increasing usage of electronic products and implementing them effectively for not only the small business community but also the more uniquely emerging self-employed taxpayer segment.

○ The Office of Taxpayer Burden Reduction provides direction and leadership for burden reduction efforts by focusing on six major areas:

■ Informing and educating customers about their tax responsibilities.

■ Simplifying forms, publications and communications.

■ Streamlining internal policies, processes and procedures (including audit plans).

■ Promoting less burdensome rulings, regulations and law.

■ Assisting in the development of a burden reduction measurement methodology.

■ Partnering with internal and external stakeholders to more effectively and efficiently identify and address burden reduction initiatives.

○ Field Organization

A geographically dispersed field staff provides top quality compliance focused pre-filing service to small business and self-employed individuals directly and through third party relationships with key internal and external stakeholders. These services assist small business and self-employed taxpayers by helping them to understand their tax obligations in a manner which leads to filing, payment, and reporting compliance.

IRS Area Distribution Centers (ADCs) serve as distribution points for tax products. Tax products can be ordered free of charge from the ADCs at 1-800-829-2437.

b. IRS provides live telephone assistance through Customer Account Service.

■ Tax Assistance—1-800-829-1040.

■ Forms, Form Instructions and Publications—1-800-829-3676.

■ Small Business and Specialty Taxes—1-800-829-4933.

■ Compliance Assistance Products—1-800-829-2765.

■ Tax Refund Hotline—1-800-829-1954.

■ Recorded Tax Information (Tele-Tax) 24 hour service—1-800-829-4477.

■ Assistance for the Hearing Impaired—1-800-829-4059.

■ To suggest improvements to IRS Procedures—1-888-912-1227.

■ Taxpayer Advocate Service Hotline—1-877-777-4778.

c. Taxpayers who need more information than is provided by Customer Account Service may go to the Help Web site at http://www.irs.gov/help/index.html.

d. Finding addresses to file Internal Revenue Service tax forms has just become easier for taxpayers and tax practitioners. On August 22, 2003, the IRS launched a “Where to File” Web site on the Internet. With only a few keystrokes, taxpayers and practitioners now have access to the proper mailing address to ensure that business returns are received and processed in a timely manner. See the Where to File—Business Forms and Filing Addresses at http://www.irs.gov/file/article/0,,id=111453,00.html.

e. Web sites/Internet

■ http://www.irs.gov—IRS Web site.

■ http://www.irs.gov/smallbiz—IRS Small Business Web site.

■ http://www.irs.gov/smallbiz—The SB/SE Internet site has had 12,200,283 visits from January 2002 to February 2004.

■ http://www.irs.gov/newsroom/index.html—News.

■ http://www.irs.gov/taxpros/content/0,,id=103728,00.html—Plain Language Regulations.

■ Tax Centers on Partners' Web site—IRS has developed a number of partnerships by establishing a Tax Center Web site on the partner's sites. Tax Centers have a comprehensive set of links customized to the partners needs and organized by topic to various parts of irs.gov. For example see: Tax Center Web site— http://www.sba.gov/bi/irstaxcenter.doc.

f. Training/Workshops/Seminars

■ Practitioner Institutes. Practitioner Institutes serve as part of an overall practitioner education curriculum, which includes Tax Talk Today, the Nationwide Tax Forum, local liaison meetings, etc. They provide a much-needed venue for delivering the IRS message to approximately 25,000 direct participants, which prepare countless tax returns for the public each year. The Tax Practitioner Institutes have been ongoing for as many as 60 years in some parts of the country. Over the years the institutes have evolved into forums that deal with a large variety of income tax issues of interest to the entire tax practitioner community.

■ Small Business Tax Workshop Student/Instructor Materials IRS has adopted three models for small business tax workshops our partners can offer as a client service to help the smallest and newest businesses:

◦ Partner organizations organize, market and staff live workshops using IRS materials or their own. IRS just released Spanish language versions of the Student Workbook and the Instructor Guide.

◦ Partnership organizations link to IRS’ on-line small business workshop products and market them to their members. An online Spanish language version of the classroom materials is nearly complete.

◦ Partner organizations distribute Pub. 3700, A Virtual Small Business workshop CD-ROM (September 2003) and Pub. 3693, Introduction to Federal Taxes for Small Business—Self Employed: Getting Your Business Off to a Successful Start CD-ROM (Sept 2001) to their members and/or let them know how to order it. Pub. 3700 has Spanish and Mandarin closed captions.

■ Online Small Business Tax Workshops. IRS has an interactive online Small Business Tax Workshop that includes all of the materials used in the classroom workshops taught by IRS partner organizations. There are also streaming video workshops in the Online Classroom at http://www.irs.gov/smallbiz.

■ Tax Talk Today. Tax Talk Today is a monthly program about current tax issues and policies sponsored in part by the IRS. It provides unbiased insight and information about current tax and business issues critical to tax professionals. All of the programs feature a panel discussion, Questions and Answers from viewers, current tax news stories, and tax teasers. The format allows viewers to ask questions via e-mail, fax or telephone. Web site: http://www.taxtalktoday.tv/.

■ Interactive Video Conference Television (IVT) IRS produces and directs live Interactive Video Television (IVT) instructional and informational training via IRS Satellite that reaches 135 IRS offices nationwide. IRS welcomes external stakeholder participation in IVTs. Last June representatives from the U.S. Chamber of Commerce and Government Affairs for the National Association of Convenience Stores participated in the “What's In It For Me” IVT.

g. Products Developed Specifically for Small Business. The role of the SB/SE TEC division is to address compliance through education and marketing to our Small Business and Self-Employed taxpayers. We develop educational products and services focused on customer needs to provide top quality pre-filing services to help taxpayers and stakeholders understand and comply with the tax laws. Products can be ordered online or by calling 1-800-829-3676. Web site: http://www.irs.gov/businesses/small/article/0,,id=101169,00.html.

h. Forums

■ Payroll/Practitioner Forums

The Payroll/Practitioner Forums are an extension of the bi-monthly National Public Liaison (NPL) meetings. The Forums provide an opportunity for the subject matter experts (SMEs) and payroll/practitioner representatives to “work through” the issues raised from suggested topics on the agenda.

■ Small Business Forums. Small Business Forums are held with external small business groups and associations. The primary focus of these meetings is to provide an avenue for an open exchange of information with external stakeholders. The forums also give them an opportunity to share feedback concerns on behalf of their small business members. Monthly schedule: http://www.irs.gov/businesses/small/article/0,,id=106266,00.html.

■ IRS Nationwide Tax Forums. One of the Service's largest and most effective outreach programs to the tax professional community is the IRS Nationwide Tax Forums. During July, August, and September, the IRS will present six tax forums nationwide, which will include seminars, a trade show, and an awards banquet. These forums are designed to help tax professionals obtain valuable information to improve their business. Web site: http://www.irs.gov/taxpros/article/0,,id=97192,00.html.

i. Tax Assistance Centers are your one-stop resource for face-to-face tax help. These sites provide assistance in the preparation of returns as well as resolution of less complex accounts and compliance issues for taxpayers that require face-to-face assistance. The site location and hours of operation are available at Web site: http://www.irs.gov/localcontacts/index.html.

IRS also offers free income tax assistance for low income, disabled, elderly and non-English speaking taxpayers through the Volunteer Income Tax Assistance program (VITA) and Tax Counseling for the Elderly program (TCE). A free tax preparation site can be located by calling Customer Account Services at 1-800-829-1040.

j. Non-retaliation Policy. The IRS has a zero tolerance policy for retaliation and has had a written non-retaliation policy in place since 1998. On July 22, 1999, President Clinton signed into law the landmark “IRS Restructuring and Reform Act (RRA) of 1998.” The IRS has taken a number of steps to prevent retaliation and has put policies in place to deal with it effectively, should it occur. Section 1203 of RRA'98 provides for the mandatory termination of IRS employees under various specific instances of misconduct and provides a number of key taxpayer safeguards. This serves as a strong deterrent to any employee who might consider taking retaliatory action. Web site: http://www.irs.gov/businesses/small/index.html.

k. TAS—Overall and Systemic Advocacy. Taxpayer Advocate Service (TAS) is an independent organization that helps taxpayers resolve problems with the IRS and recommend changes that will prevent tax problems.

The Taxpayer Advocate Service Office of Systemic Advocacy provides oversight and direction for identifying, and analyzing systemic, procedural and operations problems. This office announced on March 13, 2003 the development of a new internet-based program for submitting systemic problems and suggestions to improve tax administration. On November 24, 2003, TAS launched a new Web-based application, part of the Systemic Advocacy Management System (SAMS), to streamline the process of submitting issues that affect multiple taxpayers.

Office of Systemic Advocacy Web site: http://www.irs.gov/advocate/index.html.

Web-Based Application: http://www.irs.gov/advocate/article/0,,id=117703,00.html.

IV. Fiscal 2004 Compliance Assistance Resources

EFTPS Express Enrollment Web site—Offers some taxpayers new, quicker access to an electronic payment system. The EFTPS Express Enrollment Web site can be found at http://www.irs.gov/businesses/small/article/0,,id=120110,00.html.

Penalty Rebate for Enrolling in EFTPS Web site—Allows paper coupon users who were assessed a Form 941 deposit penalty the opportunity to receive a one-time penalty refund. The Penalty Rebate for Enrolling in EFTPS Web site can be found at http://www.irs.gov/businesses/small/article/0,,id=120305,00.html.

Reporting Agents (RAF) Web site—Assists employers in making required tax deposits and tax information filings to the Federal Government and to State and local governments. The Reporting Agents (RAF) Web site can be found at http://www.irs.gov/businesses/small/article/0,,id=108689,00.html.

Bartering Web site—Bartering occurs when goods or services are exchanged without exchanging money. Bartering revenue was estimated at 7.78 billion in 2001. The Internet has provided a medium for new growth in the bartering exchange industry. There were only $682 million dollars reported to the Service on Form 1099B's for 2001. IRS has:

◦ Mailed notices to over 600 bartering exchanges nationwide.

◦ Established partnerships with the International Reciprocal Trade Associations to develop outreach efforts to inform their members of filing requirements.

◦ Updated Web sites to include information on filing requirements for bartering exchanges.

Information Reporting Requirements for Bartering Exchange can be found at http://www.irs.gov/businesses/small/article/0,,id=118385,00.html.

Demand Reduction—The Demand Reduction Program seeks to lower the number of calls generated during the filing season by identifying high volume topics through the analysis of frequently asked questions and current emerging issues. In this pilot, IRS is testing whether targeted outreach/educational products and outreach initiatives focused on high-volume, topic-specific issues will reduce the number of calls generated in these areas. To date, the demand reduction program has identified 13 topics as being of sufficient national impact to generate headliner articles. In addition, this program has also generated a reference guide identifying the specific types and filing requirements for the various corporate returns and related schedules. This guide is slated for both “internal use”, by our assistors and “external use” by practitioners to reduce the number of “What form do I use?” questions in the “Partnership and Corporation” category.

Issue Resolution Tracking System (IRTS)—The IRS is proactive in responding to stakeholder concerns through the use of the Issue Resolution Tracking System. This Web-based data base assists IRS in monitoring the resolution of issues identified by stakeholders such as small businesses, trade associations, government agencies and government institutions, and payroll and practitioner groups. In addition to responding to issues we will be able to detect stakeholder identified issues and track trends both locally and nationally.

Global Diversity Group (GDG)—Global Diversity Group (GDG) is a consulting firm that provides access to much needed information designed to assist minority entrepreneurs and women business owners with the growth of their companies. A GDG Business Exchange “Tour for Success” annual event is held in various locations throughout the country and provides exhibitors, workshops and interaction between corporations, professionals, entrepreneurs, educators as well as government organizations. IRS established a partnership with GDG that focuses on IRS” interaction with the small business community. IRS participated in GDG Business Exchange 2003 “Tour for Success” that covered 10 cities and over 4000 participants. GDG is currently preparing to launch their revised Web site that will include a comprehensive “Tax Center” linking visitors to important small business information on the IRS Web site.

V. New in FY 2004

Small Business Products

◦ Publication 4143 and Publication 4143A, Learning the Art of Doing Business, a curriculum for cosmetology students and instructor guide, teaches the Federal tax responsibilities specific to cosmetology.

◦ Publication 4161, The Art of Doing Business, Brochure.

◦ Publication 4297, Industry Issue Resolution Program, Brochure, covers what types of issues are appropriate for the program how to submit an issue to the IRS.

◦ Publication 4261, Do You Have a Foreign Bank Account? Addresses tax compliance for those taxpayers who have a foreign bank account.

Small Business Products Printed in Spanish

◦ Publication 1518, IRS Tax Calendar.

◦ Publication 3995, Recognizing Illegal Tax Schemes.

◦ Publication 4035, Home Based Business Tax Avoidance Schemes.

◦ Publications 1066 and 1066B, Small Business Tax Workshop: Student Workbook and Supplemental Guide.

◦ Publication 3992, Consumer Tax Video, Reporting Tip Income on TRAC.

VI. Summary

IRS assists the small business community by providing small business and self-employed individuals with top quality services. The services IRS provides assist in promoting compliance among small businesses and self-employed taxpayers through non-enforcement methods and help taxpayers understand their tax obligations in a manner that leads to voluntary compliance.

IRS maintains a “customer first” focus through routinely soliciting information concerning the needs and characteristics of its small business customers and implementing programs based on the information received.

Additionally, IRS partners with other Federal agencies, financial institutions, tax preparers, community groups, trade associations, State and local authorities and others to provide tax information and education services to small business customers.

Treasury Single Point of Contact: Jackie Barber, Acting Director, Office of Small Business Development, U.S. Department of the Treasury, 1500 Pennsylvania Avenue, NW., Mail Code: 1450 G St, Washington, DC 20220. Telephone: (202) 622-8213. Fax: (202) 622-4963. E-mail: jackie.barber@do.treas.gov.

Veterans Affairs

Consistent with SBREFA, compliance assistance is funneled through the two Web sites above to register complaints or ask for assistance. Most other VA offices will ensure that appropriate certifications are published in VA regulations that they do not affect small business entities. Small businesses can comment on VA regulations during the informal rulemaking process, after they are published as proposed rules in the Federal Register.

• Office of Small and Disadvantaged Business Utilization: http://www.va.gov/osdbu.

• Center for Veterans Enterprise: http://www.vetbiz.gov.

Veterans Affairs Single Point of Contact: Ramsey Alexander, Jr., Senior Procurement Analyst, OSDBU (00SB), Department of Veterans Affairs, 810 Vermont Avenue, NW., Washington, DC 20420. Telephone: 202-565-8133. Toll Free: 800-949-8156. E-mail: ramsey.alexander@mail.va.gov.

Agency for International Development

U.S. Agency for International Development (USAID) Single Point of Contact: Marilyn S. Marton, Director, Office of Small & Disadvantaged, Business Utilization (OSDBU), U.S. Agency for International Development. 1300 Pennsylvania Avenue, NW., Washington, DC 20523-7800. Telephone: (202) 712-1500. Fax: (202) 216-3056. E-Mail: mmarton@usaid.gov.

Appraisal Subcommittee of Federal Financial Institutions Examination Council

Appraisal Subcommittee Single Point of Contact: Ben Henson, Appraisal Subcommittee of FFIEC, 2000 K St NW., Suite 310, Washington, DC 20006. Telephone: (202) 872-7520. Fax: (202) 872-7501. E-mail: ben@asc.gov.

Committee for Purchase of the Blind/Severely Disabled

Committee for Purchase for the Blind and Severely Disabled Single Point of Contact: Patrick Rowe, Deputy Executive Director, Committee for Purchase From People Who Are Blind or Severely Disabled, 1421 Jefferson Davis Highway, Jefferson Plaza 2, Suite10800, Arlington, VA 22202-3259. Phone: (703) 603-7740. Fax: (703) 603-0655. E-Mail: prowe@jwod.gov.

Commodity Futures Trading Commission

The Commodity Exchange Act (CEA) establishes a regulatory scheme for the commodity futures and options industry that generally depends on industry self-regulation with federal oversight by the Commodity Futures Trading Commission (CFTC). The National Futures Association (NFA) and other self-regulatory organizations (SROs) conduct routine compliance reviews in the futures industry. The NFA is responsible for most of the compliance reviews of retail sales practices in the industry and in this regard, it has a program for the voluntary review of promotional materials. NFA's Internet website includes a “Contact NFA” section providing telephone numbers for its general Information Center and specific compliance contact personnel (www.nfa.futures.org/contact/indexContact.asp), as well as various published compliance information (www.nfa.futures.org/compliance/publications.asp).

The CFTC provides compliance guidance to small businesses through several methods. The CFTC's Internet Web site includes a “Law & Regulation” section (www.cftc.gov/cftc/cftclawreg.htm) providing general information concerning the requirements of the CEA, CFTC Orders, and staff exemptive, no-action and interpretive letters. This section links to a “Compliance” page (www.cftc.gov/tm/tmcompliance.htm) that contains guidance to assist firms and individuals who conduct commodity futures and options business with customers in complying with the CEA provisions and CFTC Regulations applicable to their activities. Informal guidance also is available through the “Publications” section of the CFTC Web site (www.cftc.gov/cftc/cftcreports.htm), which contains “CFTC Backgrounders” and other brochures providing information of use to small businesses.

Staff members in the CFTC's various divisions offer informal assistance and guidance in response to telephone inquiries and e-mail messages submitted through the CFTC Web site (homepage: http://www.cftc.gov/). These include:

• The Division of Clearing and Intermediary Oversight ((202) 418-5430)—inquiries concerning rules governing protection of customer funds, trading and sales practice issues, registration and disclosure issues, and financial requirements.

• The Division of Market Oversight ((202) 418-5260)—Inquiries concerning market and product design, market surveillance, position reporting, and trade practice issues.

• The Office of General Counsel ((202) 418-5120)—assigns an “Attorney of the Day” to answer telephone inquiries about the CEA and CFTC Regulations.

• The Division of Enforcement—provides notice to small businesses about their right to comment on CFTC actions pursuant to the Small Business Regulatory and Enforcement Fairness Act (SBREFA) whenever it makes a request to provide information voluntarily or pursuant to subpoena or the inspection provisions of the CEA. The CFTC and its staff are committed to ensuring that small businesses are provided a non-retaliatory environment in which to exercise their right to comment.

The CFTC has a small business liaison located in the Office of External Affairs. When the agency receives inquiries related to small business, such as communications from the office of the National Ombudsman, they are forwarded to the liaison. The liaison also works with the Ombudsman to provide information and resolve any issues or complaints received by the Ombudsman's office.

Commodity Futures Trading Commission Single Point of Contact: Gabrielle A. Sudik, Attorney, Office of General Counsel, Three Lafayette Centre, 1155 21st Street, NW., Washington, DC 20581. Telephone: (202) 418-5171. E-mail: gsudik@cftc.gov.

Consumer Product Safety Commission

CPSC information can be found at http://www.cpsc.gov/businfo/businfo.html, or by calling 1-800-638-CPSC.

• CPSC offers publications, Web based compliance and on-line/e-mail service, including, but not limited to A Small Business Guide to the U.S. CPSC http://www.cpsc.gov/businfo/smbusgde.html.

Consumer Product Safety Commission Single Point of Contact: Thomas W. Murr, Jr., Deputy Executive Director, U.S. Consumer Product Safety Commission, 4330 East West Highway, Bethesda, MD 20814. Telephone: (301) 504-7907. E-mail: tmurr@cpsc.gov.

Corporation for National and Community Service

Corporation for National and Community Service Single Point of Contact: Bill Hudson, Corporation for National and Community Service, Office of the General Council Rm. 8200, 1201 NY Ave. NW., Washington DC 20525, Telephone: (202) 606-5000 ext. 265. Fax: (202) 565-2796. E-mail: whudson@cns.gov.

Environmental Protection Agency

EPA currently has over 100 initiatives, activities, and services directed at small business needs. EPA efforts include a toll-free hotline; newsletters; Web sites; e-mail listserv; information alerts on emerging regulatory issues; industry sector specific guides directed at providing information on specific industry processes, Federal regulatory requirements, compliance history and pollution prevention information; expert systems; voluntary programs; and training programs.

EPA's Small Business Ombudsman (SBO) provides a “gateway” and dedicated support for small businesses to reach EPA compliance assistance resources offered by EPA, the States, and other sources. The SBO answers technical and regulatory questions on a toll-free hotline, provides more than 350 free EPA publications, develops compliance assistance tools, and gives direct access to regulatory assistance on a comprehensive Web site. It publishes the SBO newsletter twice a year to report important EPA activities and give timely alerts to small businesses and interested service providers on EPA actions. The SBO acts as the focal point and provides multi-level support and coordination for an extensive national network of small business assistance programs, and works with small businesses, service providers, and state and regional officials to address small business needs.

The Small Business Gateway is a Web site that links to EPA's assistance programs for small business. http://www.epa.gov/smallbusiness/.

EPA also partners with industry representatives and others on sector-specific Compliance Assistance Centers. The centers support the agriculture, automotive recycling, automotive service and repair, chemical manufacturing, construction, local government issues, metal finishing, paints and coatings, printed-wiring-board manufacturing, printing, transportation, and border compliance sectors by providing tools such as checklists, plain language guides, and technical information to help small businesses understand their regulatory requirements.

Compliance Assistance Centers:

• Agriculture http://www.epa.gov/agriculture/

• Auto Recyclers http://www.ecarcenter.org

• Auto Service Industry http://www.ccar-greenlink.org

• Chemicals http://www.chemalliance.org/

• Construction Industry http://www.cicacenter.org

• Local Government http://www.lgean.org/

• Metal Finishing http://www.nmfrc.org/

• Paints and Coatings http://www.paintcenter.org/

• Printed Wiring Boards http://www.pwbrc.org/

• Printing http://www.pneac.org/

• Transportation http://www.transource.org/

• U.S./Mexico Border http://www.bordercenter.org

EPA also manages a National Compliance Assistance Clearinghouse as a guide to compliance information on the Internet. This site gives comprehensive links to EPA environmental compliance assistance materials, as well as materials from all 50 states and other organizations. The Clearinghouse contains many features allowing small businesses to interact directly with EPA and improve communication and collaboration among compliance assistance providers.

EPA's Small Business Compliance Policy promotes environmental compliance among small businesses by providing incentives to discover, disclose, and make good faith efforts to correct violations. Software is also available to assist in certain reporting requirements. The “Toxics Release Inventory—Made Easy” (TRI-ME) software guides users through the entire Toxics Release Inventory reporting process from start to finish.

EPA is also distributing a newsletter for compliance assistance providers. Entitled Compass, each addition of the newsletter focuses on a theme or topic of interest to the compliance assistance provider community. The newsletter also has a calendar of upcoming events and a “hot news” section to highlight important information such as new policies, guidance, tools, events or reports related to EPA's compliance assistance program. The primary audience for this newsletter is compliance assistance providers but other environmental assistance providers as well the regulated community-including small businesses-will find it useful. EPA plans to publish the newsletter three times a year.

Information on EPA's initiatives and activities is available on the EPA Small Business Ombudsman Web site http://www.epa.gov/sbo. This site links to the Small Business Environmental Home page http://www.smallbiz-enviroweb.org/, which provides extensive small business assistance information. EPA National Asbestos & Small Business hotline for inquires on environmental regulations may be reached via a toll free number (1-800-368-5888).

Environmental Protection Agency Single Point of Contact: Karen V. Brown, Director, Small Business Division, EPA Small Business Ombudsman (SBPRA Point of Contact), 1200 Pennsylvania Avenue NW., MC 1807T, Washington, DC 20460. Telephone: (202) 566-2816. Fax: (202) 566-0954. E-mail: brown.karen@epa.gov

Export-Import Bank

The Export-Import Bank of the United States (Ex-Im Bank) is the official export credit agency of the United States. Ex-Im Bank's mission is to assist in financing the export of U.S. goods and services to international markets. Ex-Im Bank enables U.S. companies—large and small—to turn export opportunities into real sales that help to maintain and create U.S. jobs and contribute to a stronger national economy.

Ex-Im Bank does not compete with private sector lenders but provides export financing products that fill gaps in trade financing. We assume credit and country risks that the private sector is unable or unwilling to accept. We also help to level the playing field for U.S. exporters by matching the financing that other governments provide to their exporters.

Ex-Im Bank provides working capital guarantees (pre-export financing); export credit insurance (post-export financing); and loan guarantees and direct loans (buyer financing). No transaction is too large or too small. On average, 85% of our transactions directly benefit U.S. small businesses.

With nearly 70 years of experience, Ex-Im Bank has supported more than $400 billion of U.S. exports, primarily to developing markets worldwide.

• Export-Import Bank Mission Statement: http://www.exim.gov/about/mission.html

• Pre-Export Financing To Help U.S. Exporters Maximize Borrowing Potential: http://www.exim.gov/products/work_cap.html

• Increase Your Export Sales While Minimizing Risks: http://www.exim.gov/products/insurance/index.html

• Special Initiatives for Underserved Small Businesses: http://www.exim.gov/products/special/underserved.html

Export-Import Bank Single Point of Contact: Sam Zytcer, Director of the Small Business Office, Export-Import Bank, 811 Vermont Avenue, NW., Washington, DC 20571. Telephone: (202) 565-3782

Equal Employment Opportunity Commission

Small Business Initiative

EEOC has developed a Small Business Initiative (SBI) to improve customer service and expand outreach, education, and technical assistance to the small business community. The SBI aims to promote voluntary compliance by building a more cooperative and collaborative relationship with the small and mid-sized business community and to address EEO concerns expressed by small business owners. The main components of the SBI include:

Small Business Liaisons. Every EEOC District office has a Small Business Liaison available to employers who have questions about the laws enforced by EEOC or about compliance with those laws in specific workplace situations. Information on contacting Small Business Liaisons can be found at www.eeoc.gov/employers/contacteeoc.html.

Small Business Web Page. www.eeoc.gov/employers/smallbusinesses.html—While the information on this page applies to all employers, it has been specifically designed for small businesses which may not have a human resources department or a specialized EEO staff. The page is designed to make it easier for small businesses to comply with the anti-discrimination laws and help them in their dealings with the EEOC.

No-Cost Outreach and Education Programs

EEOC's outreach and education programs provide information about the employment discrimination laws enforced by EEOC and the EEOC charge/complaint process. EEOC representatives are available at no cost to make presentations and participate in meetings with employers and their representative groups. For example, EEOC hosts regular meetings with employers and employer groups, such as stakeholder advisory councils to get feedback on legal and operational issues; provides speakers and trainers for conferences, seminars, workshops and classroom presentations and for regular scheduled meetings of organizations, professional associations, etc; distributes information materials on EEO laws and represent the Commission at events, such as job fairs, conventions and conferences; and participates in media presentations—including radio and TV interviews, as well as cyber-chats.

A list of outreach coordinators and contact information can be found at www.eeoc.gov/outreach/coordinators.html.

Fee-Based Training and Technical Assistance

EEOC presents a wide variety of fee-based training and technical assistance programs throughout the country geared to employers in the private sector, including small businesses, as well as Federal, State and local government agencies. Training and technical assistance available includes:

Technical Assistance Program Seminars (TAPS). Seminars emphasize how to prevent EEO problems from developing and how to resolve discrimination complaints effectively when they do arise. Real-life case studies and examples often are used to show how equal employment requirements apply to specific employment practices. Updates on important legal developments, Commission policy and procedures and vital information about EEOC's latest initiatives and alternative dispute resolution program are discussed. Specialized topics will differ by seminar and may include in-depth sessions on issues such as: Sexual and racial harassment; complex ADA issues, including the ADA's relation to other workplace laws; and religious and national origin discrimination. Whenever practicable, small group breakouts, question and answer periods, interactive formats and informal discussions are used in the seminars, which enable participants to receive answers to specific EEO questions.

Customer Specific Training Programs. EEOC staff provide specialized training on various employment discrimination topics for employers at their work site or at an organization's meeting or training events.

Training Products. EEOC has developed training course materials on Workplace Harassment Issues: How to Identify, Prevent and Eliminate Workplace Harassment, which are available for employers who want to deliver their own training. Additional training courses on the Americans with Disabilities Act and other topics are under development and will be available in the future. Information on Training Contacts can be found at www.eeotraining.eeoc.gov.

Publications

EEOC fact sheets, information materials and brochures and other publications are available at no cost. They can be ordered by calling 1-800-669-3362 (voice) or 1-800-800-3302 (TTY) or through the Internet at www.eeoc.gov/publications.html.

Training and Technical Assistance Materials available for direct purchase—A seven volume set of resource manuals provides a comprehensive and invaluable EEO library on employment discrimination issues. Each volume contains training exercises, practical guidance and copies of EEOC's most important policy interpretations, including information concerning recent important Supreme Court decisions affecting Federal EEO law. The volumes are compiled and written by legal experts and training professionals from the EEOC, the Federal agency responsible for enforcing and interpreting the country's various Federal employment discrimination laws. The entire series is updated annually to reflect changes in law, court decisions and new EEOC guidance. These materials are useful for employers, human resource/EEO professionals, attorneys, labor representatives and others interested in EEO matters in the private, Federal and State and local government sectors. These manuals can be ordered through www.eeotraining.eeoc.gov.

Web Page

• EEOC's Web page— www.eeoc.gov—provides easy-to-use information on federal laws prohibiting job discrimination, including a question and answer format. The site also provides copies of news/press releases, laws enforced by EEOC, regulations, and policy guidance issued by EEOC, as well as information on outreach, training and technical assistance and publications.

• The site provides links to other Federal labor law enforcement agencies and other Federal agencies which may have information/resources useful to employers.

• EEOC has also worked with many Federal agencies, such as the Small Business Administration, Office of the National Ombudsman, to ensure EEOC's Web page is available as a link.

New Freedom Initiative

EEOC is working closely with small business organizations and disability groups to conduct a series of free outreach and education events for small businesses as part of President Bush's New Freedom Initiative. EEOC expects to continue putting on these events throughout fiscal years 2003 and 2004. EEOC has also produced The Americans with Disabilities Act: A Primer for Small Business, which is a practical, reader-friendly handbook for the small business person outlining the employment provisions of the ADA as they relate to both employees and job applicants. Information on the workshops is available at www.eeoc.gov/initiatives/nfi/index.html. A copy of the Primer is available at www.eeoc.gov/ada/adahandbook.html.

Guidance Letters

EEOC's Office of Legal Counsel issues approximately 90 significant guidance letters a year explaining the employment discrimination statutes to employers and other stakeholders.

Equal Employment Opportunity Commission Single Point of Contact: Laura Hinton, National Outreach Coordinator, Office of Field Programs, EEOC, 1801 L Street, NW., Washington, DC 20507. Telephone: 202-663-4811. E-mail: laura.hinton@eeoc.gov

Federal Communications Commission

The Federal Communications Commission (FCC) is an independent U.S. government agency, directly responsible to Congress. The FCC was established by the Communications Act of 1934 and is charged with regulating interstate and international communications by radio, television, wire, satellite and cable. The FCC's jurisdiction covers the 50 States, the District of Columbia, and U.S. possessions.

The FCC is directed by five Commissioners appointed by the President and confirmed by the Senate for 5-year terms, except when filling an unexpired term. The President designates one of the Commissioners to serve as Chairperson. Only three Commissioners may be members of the same political party. None of them can have a financial interest in any Commission-related business.

The Commission staff is organized by function. There are six operating Bureaus and ten Staff Offices. The Bureaus' responsibilities include: Processing applications for licenses and other filings; analyzing complaints; conducting investigations; developing and implementing regulatory programs; and taking part in hearings. The Offices provide support services. Even though the Bureaus and Offices have their individual functions, they regularly join forces and share expertise in addressing Commission issues. The six operating Bureaus are: Consumer and Governmental Affairs, Enforcement, International, Media, Wireless Telecommunications, and Wireline Competition.

Concerning FCC small entity enforcement and compliance issues, the primary sources for information are the Enforcement Bureau, which enforces the Communications Act as well as the Commission's rules, orders and authorizations, and the Office of Communications Business Opportunities (OCBO), which provides advice to the Commission on issues and policies concerning telecommunications opportunities for small, minority, and women-owned communications businesses. In addition, the FCC Consumer Center, within the Consumer and Governmental Affairs Bureau, provides a wealth of consumer information and other service.

E-Mail, Small Entity Contact Point: ocboinfo@fcc.gov

Telephone Service:

• Office of Communications Business Opportunities (OCBO): 202-418-0990

• Enforcement Bureau: 202-418-7450

• FCC Consumer Center, Toll-Free Telephone Service: 1-888-CALL-FCC (1-888-225-5322)

• TTY, FCC Consumer Center, Toll-Free Telephone Service: 1-888-TELL-FCC (1-888-835-5322)

Online Service:

• FCC Homepage and News Location: http://www.fcc.gov

• Office of Communications Business Opportunities (OCBO): http://www.fcc.gov/ocbo/

• Enforcement Bureau: http://www.fcc.gov/eb/ (this site includes the resource, “How to File Complaints”)

• Consumer and Governmental Affairs Bureau: http://www.fcc.gov/cgb/

• Consumer Alerts and Factsheets—Directory: http://www.fcc.gov/cgb/information_directory.html

• Current Major Initiatives: http://www.fcc.gov/initiatives.html

Federal Communications Commission Single Point of Contact: Carolyn Fleming Williams, Director, Office of Communications Business Opportunities, U.S. Federal Communications Commission, 445 12th Street, S.W., Telephone: 202-418-0990. Fax: 202-418-0235. E-mail: Carolyn.Williams@fcc.gov.

Federal Deposit Insurance Corporation

The FDIC provides compliance guidance to small banks on the range of supervisory and regulatory issues to strengthen banks' own compliance expertise and to enable banks to structure their own operations in compliance with the law. Within the banking industry, a longstanding custom has developed in which individual institutions contact FDIC examiners for guidance on questions and concerns, both to prevent non-compliance and to promptly and appropriately correct any problems that might exist.

Compliance assistance products and services provided by the FDIC include a variety of venues and provides a broad range of information (in both web-based and print versions) that addresses the mission, activities, and administrative actions of the FDIC, and provides access to manuals, guidelines, and regulations, as well as to policy research, data, and analysis of emerging issues in banking and the economy.

• The FDIC maintains a toll-free hotline and an Internet site for bankers and consumers to contact the FDIC if they have a problem or concern.

• The FDIC provides a compliance assistance web site at http://www.fdic.gov. The FDIC web site includes information on examinations, deposit insurance, laws and regulatory reporting, reports and statistics, forms and publications, and consumer and community affairs. Several of the FDIC sites are of particular interest to small banks. FDICconnect is the secure internet channel for FDIC-insured institutions to conduct business and exchange information with FDIC. The Director's Corner includes items of interest to bank directors such as Interagency Policy Statements, Supervisory Guidance, and Financial Institution Letters. The Office of the Ombudsman site provides assistance to FDIC-supervised and insured banks, serving as a bridge to the Corporation.

• The FDIC has a compliance assistance employee available for each of its regulated institutions. At the Regional and Territory Office levels there are case managers, field examiners, and other senior staff assigned to a specific bank as the single point of contact for that institution. The supervised institution and the FDIC point of contact exchange numerous telephone calls and other direct communication both to give guidance and to respond to informational requests. In addition, there are Subject Matter Experts available at the Regional and Washington Offices to answer questions in more technical areas such as Information Systems, Capital Markets, Accounting, Trust and other subject areas.

• The agency provides compliance assistance education. Perhaps the most extensive educational activities occur during the examination process. Examiners review a bank's procedures, practices, policies, and records to determine compliance with laws, regulations, and supervisory policies. The vast majority of banks are well run and compliance information customized to the individual bank's activities is provided to bank management and employees to assist in future activities. In the case of problem institutions, a more formal program to correct deficiencies identified at the examination is put in place. Between examinations, the FDIC has a Banker Outreach Program where senior FDIC staff contact and meet with bank management to discuss new technologies, product innovations, and recent statutory changes.

The FDIC maintains a structured compliance educational program in its Directors' Colleges and in FDIC sponsored symposiums, roundtables, and conferences. In 2003 and 2004, the FDIC held outreach roundtable discussions on Consumer Debt, the Corporate Credit Cycle, and the Commercial Real Estate Cycle and a symposium on Tapping the Unbanked Market and Protecting the Financial Sector. Compliance assistance is also provided when bankers meet with senior FDIC officials at state banker association meetings and industry gatherings.

The FDIC provides a number of compliance assistance publications and other regulatory information:

Supervisory Information:

• Financial Institution Letters—supervisory guidance on regulations and policies

• FDIC Law, Regulations, Related Acts

• FDIC Enforcement Decisions and Orders

• Merger Decisions

Examination Manuals:

• Manual of Examination Polices

• Compliance Examination Manual

• FFIEC Information Technology Examination Handbook

• Information Technology Examination Procedures

• E-Banking Examination Procedures

• Trust Examination Manual

• Guide to the Interagency Country Exposure Review Committee Process

• Guidelines for Payday Lending

Monthly, Quarterly, and Annual Publications:

• FDIC Annual Report—summary of operations and initiatives for the year

• Letter to Stakeholders—Chairman's report on FDIC's priorities

• FYI—An electronic newsletter that highlights analyses in the areas of risk

• FDIC Banking Review—Academic research on banking and supervision

• Working Paper Series—Academic research on banking and finance

• FDIC Outlook—Economic and Banking Risk Analysis from national and regional perspectives

• FDIC State Profiles—Macroeconomic and banking conditions in each state

• Quarterly Banking Profile—Bank performance, trends and data tables

• FDIC Consumer News—Banking and financial information for consumers

• Failed Bank Cost Analysis

• FDIC/OTS Summary of Deposit

• Trust Assets of Financial Institutions

On-Line Data Queries:

• Institution Directory

• Statistics on Depository Institutions

• Call & Thrift Financial Reports

• Electronic Deposit Insurance Estimator

• CRA Statute and Tools

• RESPA Escrow Program

Guides for Bankers and Consumers:

• Pocket Guide for Directors

• Financial Institution Employees Guide to Deposit Insurance

• International Directory of Deposit Insurers

• Mortgage Loan Pre-qualifications: Applications or Not?

• Side by Side: A Guide to Fair Lending

• Uninsured Investment Products: A Pocket Guide

• FDIC Guide to Real Estate Sales

• Privacy Choices

• Symbol of Confidence

• Your Insured Deposit; Your Investments

• Consumer Facts and Investments

Information for Contractors:

• FDIC Acquisitions Policy Manual

• Information for Prospective Outside Counsel

• Office of Executive Secretary Contractor Ethics Decisions, 1996-Present

Office of the Ombudsman:

http://www.fdic.gov/regulations/resources/ombudsman/index.html

Federal Deposit Insurance Corporation Single Point of Contact: Carol L. Middlebrook, Ombudsman Specialist, 550 Seventeenth Street, NW., PA-1730-2126, Washington, DC 20429. Telephone: 202-942-3807. Fax: 202-942-3041. E-mail: cmiddlebrook@fdic.gov

Federal Energy Regulatory Commission

Federal Energy Regulatory Commission Single Point of Contact: Kimberly F. Fernandez, Office of External Affairs, Federal Energy Regulatory Commission, 888 First Street, NE., Washington, DC 20426. Telephone: 202-502-8302. E-mail: kimberly.fernandez@ferc.gov

Federal Housing Finance Board

Federal Housing Finance Board Single Point of Contact: Janice Kaye, Federal Housing Finance Board, Office of General Counsel, 1777 F Street, NW., Washington, DC. Phone: 202-408-2505. E-mail: kayej@fhfb.gov

Federal Maritime Commission

Federal Maritime Commission Single Point of Contact: Jane E. Gregory, Executive Assistant, Executive Director's Office, Federal Maritime Commission, 800 N. Capitol Street, NW., Washington, DC 20573. Telephone: 202-523-5800. Fax: 202-523-5827. E-mail: janeg@fmc.gov

Federal Mediation and Conciliation Service

Federal Mediation and Conciliation Service Single Point of Contact: Dan Funkhouser, Chief Information Officer, Federal Mediation and Conciliation Service, 2100 K St NW., Washington, DC 20427. Telephone: 202-606-5477. E-mail: dfunkhouser@fmcs.gov

Federal Reserve Board

Procurement (Companies wishing to conduct business with the Board): Carlos Gutierrez, Small Business Procurement Liaison, 20th and C Streets, NW., M/S 128, Washington, DC 20551. Telephone: 202-452-2458. E-mail: Carlos.Gutierrez@frb.gov

General Financial Information for Small Businesses

General Community Development information: www.federalreserve.gov/community.htm

A Guide to Business Credit for Women, Minorities, and Small Businesses: www.federalreserve.gov/community.htm

Federal Reserve Regulatory Reporting Forms

Current Reporting Forms: www.federalreserve.gov/boarddocs/reportforms/default.cfm

Reporting Forms Under Review

www.federalreserve.gov/boarddocs/reportforms/review.cfm

Banking and Regulatory Information

General Banking and Regulatory information: www.federalreserve.gov/banknreg.htm

Regulations (PDF files): www.federalreserve.gov/regulations/default.htm

Supervision & Regulation Letters (SR Letters): www.federalreserve.gov/boarddocs/srletters/

Federal Reserve Board Publications Department

Publications available free-of-charge on-line: www.federalreserve.gov/publications.htm

Publications available for order (on-line order form and information): Federal Reserve Board, 20th and C Streets, NW., Publications Services, M/S127, Washington, DC 20551. Telephone: 202-452-3245. Fax: 202-728-5886.

www.federalreserve.gov/pubs/order.htm

News and Events

General News and Events, including: Testimonies and speeches; press releases; and services (e-mail notification for press releases and other unscheduled postings; personal digital assistant wireless service for press releases; and e-mail notification for testimony and speeches): www.federalreserve.gov/newsevents.htm

General Federal Reserve Public website: www.federalreserve.gov

Federal Reserve Board Single Point of Contact: Cindy Ayouch, Chief, Financial Reports section, 20th and C Streets, NW., M/S 41, Washington, DC 20551. Telephone: 202-452-3829. Fax: 202-728-5856. E-mail: Cynthia.M.Ayouch@frb.gov.

Federal Trade Commission

The FTC offers a broad array of resources to aid small businesses in understanding their obligations under the laws and regulations administered by the Commission. The FTC offers general information in a variety of forms to address issues and questions that small businesses frequently encounter. Such guidance usually will satisfy the needs of small businesses for guidance as to their obligations. For example, the FTC issues many types of publications designed to explain how small businesses and others can conduct their affairs in compliance with the laws and regulations administered by the FTC. These include materials specifically directed to businesses, such as (1) compliance guides explaining the requirements of specific FTC rules in a non-technical manner; (2) industry guides addressing common compliance issues under the Federal Trade Commission Act, as applied to particular industries or particular practices; (3) guidelines and policy statements explaining the application of antitrust laws to particular practices or industries. These materials frequently contain specific examples and illustrative fact patterns that show how the agency would apply the law to a particular set of facts. The FTC holds public workshops, conferences and other forums to discuss specific topics, which often include compliance concerns. Also, FTC staff members and Commissioners frequently give speeches and conduct programs geared to explaining statutory and regulatory requirements and to answering attendees' questions. Where the topics are of particular interest to small business, these speeches may involve appearances before groups representing small-business interests. Other sources of information include full texts of FTC-administered statutes and rules, advisory opinions issued by the Commission or its staff, texts of speeches and testimony, and information on enforcement actions. The FTC also produces and disseminates numerous print and broadcast materials that, while directed to consumers, can benefit small businesses by identifying the practices that generate consumer protection issues between businesses and their customers and explaining how they should be handled. These materials and information are readily available to small businesses through a variety of sources, including (1) through the FTC's website www.ftc.gov, and from links at www.business.gov, www.firstgov.gov, and www.sba.gov/yourgovt/federal.html, and (2) directly from the FTC, Room H-130, 600 Pennsylvania Ave. NW., Washington, DC 20580, or call (toll-free) 877-FTC-HELP.

FTC Compliance Guides are available at http://www.ftc.gov/ftc/businessinfo/consumer.htm, and include, among others:

• Frequently Asked Advertising Questions: A Guide for Small Business http://www.ftc.gov/bcp/conline/pubs/buspubs/ad-faqs.htm

• Complying with the Telemarketing Sales Rule, http://www.ftc.gov/bcp/conline/pubs/buspubs/tsrcomp.htm#privacy

• How to Comply with the Privacy of Consumer Financial Information Rule of the Gramm-Leach-Blilely Act, A Guide for Small Businesses from the Federal Trade Commission http://www.ftc.gov/bcp/conline/pubs/buspubs/glblong.htm

• How to Comply With The Children's Online Privacy Protection Rule http://www.ftc.gov/bcp/conline/pubs/buspubs/coppa.htm

Where the sources of general information are insufficient to provide the needed guidance or assistance, an FTC staff member may provide specific, informal advice or arrange for a more formal response. Small businesses may make inquiries of the Commission by various means. Inquiries can be informal and the business need not even identify itself. The FTC also has procedures for providing, where appropriate, either a staff advisory opinion or, in specified circumstances, a Commission advisory opinion. It is generally most effective to discuss the issue with a staff person before deciding whether to seek a formal advisory opinion.

Inquiries regarding consumer protection issues: FTC, Room H-130, 600 Pennsylvania Ave. NW., Washington, DC 20580. Telephone: (toll-free) 1-877-FTC-HELP (1-877-382-4357).

Inquiries regarding competition issues: Office of Policy and Evaluation, Bureau of Competition, Federal Trade Commission, Washington, DC 20580. Telephone (202) 326-3300. Fax (202) 326-2884.

Federal Trade Commission Single Point of Contact: Donald Clark, The Office of the Secretary, Federal Trade Commission, 600 Pennsylvania Ave. NW., Washington, DC 20580. Telephone: 202-326-2514. Fax: 202-326-2496.

Businesses may also contact any of the FTC's regional offices.

General Services Administration

General Services Administration Single Point of Contact: Mr. Felipe Mendoza, Associate Administrator, Office of Small Business Utilization, General Services Administration, 1800 F Street, NW., Room 6029, Washington, DC 20405. Telephone: 202-501-0864.

Institute of Museum and Library Services

Institute of Museum and Library Services Single Point of Contact: Rebecca W. Danvers, Ph.D., Director of Research and Technology, Institute of Museum and Library Services, 1100 Pennsylvania Avenue NW., Room 223, Washington, DC 20506. Phone: 202-606-2478. Fax: 202-606-0395. E-mail: rdanvers@imls.gov.

Merit Systems Protection Board

Merit Systems Protection Board Single Point of Contact: Richard A. Dorr, Merit Systems Protection Board, 1615 M Street NW., Suite 500, Washington, DC 20036. Telephone: 202-653-6772 ext.1113. Fax: 202-653-7821. E-mail: richard.dorr@mspb.gov.

National Aeronautics and Space Administration

The Office of Small and Disadvantaged Business Utilization (OSDBU) promotes the utilization of small, disadvantaged and women-owned businesses in compliance with Federal laws, regulations, and policies. We assist such firms in obtaining contracts and subcontracts with NASA and its prime contractors. The OSDBU also facilitates the participation of small businesses in NASA's technology transfer and commercialization activities. Our objective is not only to ensure that small businesses are integrated seamlessly into the aerospace industrial base of the country, but that they can contribute to the performance of NASA missions. NASA supports a non-retaliation policy against small businesses as stated in NASA Policy Directive 5101.32 for the Ombudsman program.

Small businesses seeking work with NASA are directed to our website http://osdbu.nasa.gov. Activities in support of small businesses are listed with information on how to get involved in obtaining contracts and subcontracts. Request for Proposals open for bid can be reviewed on the Internet at http://procurement.nasa.gov.

To get the highest return on investment, the NASA OSDBU has designed, implemented, and facilitated user-friendly programs and initiatives. This ensures the full integration of capable and high-quality small businesses into the competitive base of contractors from which NASA regularly purchases products and services. In addition, the OSDBU has an outreach effort to communicate with its target small business constituents, as well as an in-reach program to educate NASA technical, procurement, and administrative personnel about programs and policies. The OSDBU also disseminates information about its programs through conferences, forums, training and development programs, counseling, promotional materials, and the Internet. A free three-day course called Training and Development for Small Businesses in Advanced Technologies (TADSBAT) acquaints companies with the NASA culture. This course is held four times a year at different locations nationally. In addition, two forums were developed to seek high-technology firms capable of participating in the Agency's most complex programs. The Aerospace Technology Small Disadvantaged Forum is conducted twice a year at two of the aeronautics Field Centers where three to five high-tech SDBs are selected to give presentations to senior level technical managers. From the forum's inception in 1993 through FY 2001, more than $85 million have been awarded to some of the presenters. A similar format is used for the Semi-annual Science Forums for Small Businesses. The Science Forums create a “high-level marketing opportunity” for selected small businesses to present their capabilities to earth science personnel at the Goddard Space Flight Center and to space science personnel at The Jet Propulsion Laboratory. Since the inception of this program in 1997, over $47 million in contracts and subcontracts have been awarded to participants.

As NASA's premier initiative, the Mentor-Protégé Program is designed to encourage prime contractors to assist disadvantaged companies in expanding their technical capabilities where such firms are underrepresented in the market. Prime contractors receive a variety of incentives during the source selection process, plus award fee increments during the period of the contract, if performed successfully. To spur small businesses to actively pursue opportunities for commercializing NASA technology, the OSDBU, in conjunction with the Minority Owned Business Technology Transfer Consortium (MBTTC) puts on seminars throughout the year. Companies learn about the NASA Commercialization Technology Network, how to identify technologies and work with researchers and scientists, how to apply for licensing agreements, and how to find financing sources.

“Socioeconomic Procurement as a Business Imperative” is a one-day course given four times a year at different NASA Centers to a cross-section of the Agency's technical, procurement, and administrative personnel. The course emphasizes the value-added benefit of utilizing diverse small businesses (in addition to being in compliance with laws and regulations that require it). On its own initiative, NASA has established a one percent goal as a percent of total contract value awarded yearly to Historically Black Colleges and Universities and other minority educational institutions. NASA is promoting the integration of this underutilized national resource.

To enhance the competitive advantage of small businesses in the national and world marketplace NASA has promoted the international quality management standard, ISO 9000. Since 1996, NASA has conducted seminars at major small business conferences on how to get certified. The NASA OSDBU staff became the first Federal headquarters office to become certified. The OSDBU wants to ensure that small businesses are aware of the fundamentals of an effective teaming agreement with large prime contractors. Seminars are taught by the Assistant Administrator for Small Business and are designed to enable small businesses to understand the legal structure of written teaming agreements, as well as the factors to consider when choosing a potential teaming partner. The NASA Minority Business Resource Advisory Committee (MBRAC) was organized to include executive members from disadvantaged companies who could advise the Administrator on how to increase small business involvement in NASA and remove regulatory obstacles to that end. Recommendations have been made and implemented in the areas of procurement source criteria, contract fee structure, contracting goals, and the review of subcontracting plans. The NASA Prime Contractor Roundtable was designed to facilitate an exchange between NASA and its prime contractors, mainly on how to increase the use of small businesses in their respective subcontracting programs. NASA's Assistant Administrator for Small Business is a board member of the World Association of Small and Medium Enterprises, an affiliated organization to the United Nations. Through this association, NASA is able to advise American small businesses on the advantages of competing in the world marketplace.

National Aeronautics and Space Administration Single Point of Contact: Ms. Patricia L. Dunnington, Chief Information Officer, National Aeronautics and Space Administration (NASA), 300 E Street, SW., Washington, DC 20546. Telephone: (202) 358-3261. Fax: (202) 358-3063. E-mail: pat.dunnington@nasa.gov.

National Archives & Records Administration

The National Archives and Records Administration (NARA) ensures, for citizens and Federal officials, ready access to essential evidence that documents the rights of American citizens, the actions of Federal officials, and the national experience. It establishes policies and procedures for managing U.S. Government records and assists Federal agencies in documenting their activities, administering records management programs, scheduling records, and retiring noncurrent records. NARA accessions, arranges, describes, preserves, and provides access to the essential documentation of the three branches of Government; manages the Presidential Libraries system; and publishes the laws, regulations, and Presidential and other public documents. It also assists the Information Security Oversight Office, which manages Federal classification and declassification policies, and the National Historical Publications and Records Commission, which makes grants nationwide to help nonprofit organizations identify, preserve, and provide access to materials that document American history.

See www.archives.gov for information on the National Archives and Records Administration's programs and activities. One resource for small businesses is NARA's Office of the Federal Register (see http://www.archives.gov/federal_register/index.html). That office provides ready access to the official text of Federal laws, Presidential documents, administrative regulations and notices, and descriptions of Federal organizations, programs and activities.

National Archives and Records Administration Single Point of Contact: Nancy Allard, Policy and Communications Staff, Office of the Archivist, NARA. Telephone: 301-837-1477. Fax: 301-837-0319. E-mail: nancy.allard@nara.gov.

National Commission on Libraries & Information Science

National Commission on Libraries and Information Science Single Point of Contact: Madeleine C. McCain, Director of Operations, U.S. National Commission on Libraries and Information Science. Telephone: (202) 606-9200. E-mail: mmccain@nclis.gov. Web site: www.nclis.gov.

National Credit Union Administration

Point of Contact: Neil McNamara, National Credit Union Administration, 1775 Duke St., Alexandria, VA 22314-3428. Telephone: (703) 518-6440. Telephone: (703) 518-6570. Other points of contact are accessible through the NCUA website at www.ncua.gov and by telephone at (703) 518-6300.

National Endowment for the Arts

National Endowment for the Arts Single Point of Contact: William Hummel, 1100 Pennsylvania Ave. Rm. 618, Washington, DC 20506. Telephone: 202-682-5417. E-mail: hummelw@arts.gov.

National Endowment for the Humanities

National Endowment for the Humanities Single Point of Contact: Susan G. Daisey, Director, Office of Grant Management, National Endowment for the Humanities, 1100 Pennsylvania Avenue, NW., Room 311, Washington, DC 20506. Telephone: 202-606-8494. Fax: 202-606-8633. E-mail: sdaisey@neh.gov.

National Indian Gaming Commission

National Indian Gaming Commission Single Point of Contact: Penny Coleman, Acting General Counsel, NIGC, 1441 L Street NW., Suite 9100, Washington, DC 20005. Telephone: 202-632-7003. Fax: 202-632-7066. Web site: www.nigc.gov

National Labor Relations Board

National Labor Relations Board Single Point of Contact: Hugo Voogd, Deputy to the Assistant General Counsel, National Labor Relations Board, Division of Operations-Management, 1099 14th Street, NW., Room 10204, Washington, DC 20570. Telephone: 202-273-0057.

The following actions have been taken to provide compliance assistance to all NLRB “customers”:

• NLRB strives to improve services to members of the public with limited English proficiency. These improvements would assist small businesses owned or managed by non-English speakers. Recent improvements include adding a folder to its web site that explains the NLRB's function and services in Spanish.

• NLRB continually seeks to improve the public information officer program in its field offices to ensure that the public is assisted properly with questions about their rights under the National Labor Relations Act (NLRA). NLRB information officers have responded to over 150,000 inquires annually. Most direct individuals to other agencies or provide explanations about the individual's rights under the NLRA. The services provided under our public information officer program assists small businesses by discouraging the filing of frivolous charges. Recently, the NLRB made available to the public a toll-free telephone number that will connect the caller directly to the NLRB's office that is closest to caller's residence or office. Information provided through the toll-free telephone number is also available in Spanish.

• NLRB web site contains a statement of its Standards of Service, providing clear explanations about what parties to NLRB proceedings can expect after charges and petitions are filed. Our web site provides for a procedure for the public to comment on how our services can be improved. (www.nlrb.gov) In addition, the web site now makes available to members of the public, including small businesses, electronic copies of case handling manuals, the Board's Rules and Procedures, and recently issued Board decisions and other memoranda.

• NLRB has implemented new procedures on its web site that enhance the ability of parties to its proceedings to communicate with the Agency through e-mail and submit certain documents electronically.

• NLRB field offices are continually encouraged to expand their outreach programs by speaking to business groups and labor organizations about our procedures, and participating in labor-management conferences where changes in the current case law are explained and discussed. Many small businesses take advantage of these conferences so that they can learn how to stay in compliance with the National Labor Relations Act.

National Mediation Board

National Mediation Board Single Point of Contact: Denise M. Vines, Supervisory Finance & Administration Specialist, Washington, DC 20572. Telephone: 202-692-5010. E-mail: vines@nmb.gov.

National Science Foundation

National Science Foundation Single Point of Contact: Donald Senich, Director, Office of Small and Disadvantaged Business Utilization Research and Development, 4201 Wilson Blvd, Rm. 527, Arlington, VA 22230. Telephone: 703-292-7082. Fax: 703-292-9055. E-mail: dsenich@nsf.gov

National Transportation Safety Board

National Transportation Safety Board Single Point of Contact: Deborah Bruce, PhD, National Transportation Safety Board, Safety Studies and Statistical Analysis Division, 490 L'Enfant Plaza East, SW., Washington, DC 20594. Telephone: 202-314-6511. E-mail: bruced@ntsb.gov

Nuclear Regulatory Commission

Nuclear Regulatory Commission Single Point of Contact: Brenda Shelton, Chief, NRC Records Mgmt Branch, OCIO, U.S. Nuclear Regulatory Commission, Washington, DC 20555-0001. Telephone: 301-415-7233. Fax: 301-415-6434. E-mail: BJS1@NRC.GOV. web site: http://www.nrc.gov/

Compliance Assistance Information

Mauricio Vera (MXV@NRC.GOV) (Telephone: 301-415-7160) is the point of contact for small business inquiries pertaining to contracting opportunities with NRC. Detailed information on the small business program can be found at http://www.nrc.gov/who-we-are/small-business.html.

Michael Lesar (MTL@NRC.GOV) is the point of contact to provide assistance to small entities that have questions regarding compliance with NRC regulations and/or the impact of NRC rulemakings on small entities. Information on NRC's policy and procedures in this area can be found at http://www.nrc.gov/what-we-do/regulatory/rulemaking/flexibility-act.html.

Office of Personnel Management

Office of Personnel Management Single Point of Contact: Tina B. McGuire, Chief, Contracting Group, CCFAS, United States Office of Personnel Management, 1900 E Street, NW., Room 1342, Washington, DC 20415. Telephone: (202) 606-4591. E-mail: tina.mcguire@opm.gov

Overseas Private Investment Corporation

General Information, Small Business Hotline: 1-800-CALL-SBC; (1-800-225-5722), Local Area Telephone: 202-336-8700, Fax: 202-336-8701, E-mail: smallbiz@opic.gov.

Overseas Private Investment Corporation Single Point of Contact: Mitchell Strauss, Small and Medium Enterprise Department, Overseas Private Investment Corporation, 1100 New York Ave NW., Washington, DC 20527. Phone: 202-408-6300. Fax: 202-408-9866. E-mail: mstra@opic.gov

Peace Corps

The Peace Corps, as a small Federal Agency, relies on and contracts with small businesses for a majority of our products and services. The Office of Contracts maintains a list of submitted contractors to match against our posted contracting requirements. The list is maintained for one year after submission. An agency database is maintained for overseas contractors. To enroll in this database, visit our web site.

Many short-term training contractors are needed for overseas services. Contracting opportunities available are posted on our web site. Visit our web site at www.peacecorps.gov under the heading About the Peace Corps, click on Management, and then click on Contracting Opportunities. On this web page, click on learn more to see overseas training services needed and to find information about being added to our database. Contracts for over $25,000 are posted on FedBizOpps.

Any questions or for further information, contact Ms. Judy Dawes. Ms.Dawes will provide assistance and explanations in complying with Peace Corps regulatory procedures and requirements for contracting.

Peace Corps Single Point of Contact: Judy Dawes, Peace Corps, Office of Contracts, Deputy Director, 1111 20th Street, NW., Room 4444, Washington, DC 20526. Telephone: 202-692-1624. Fax: 202-692-1621. Toll Free: 800-424-8580. E-mail: jdawes@peacecorps.gov Website: www.peacecorps.gov

Pension Benefit Guaranty Corporation

Customer Service Center

A toll free number (1-800-736-2444) dedicated to pension plan administrators and plan professionals.

Office of the RegFair Representative

This office functions independently of enforcement and compliance activities, addresses issues raised by businesses that sponsor defined benefit pension plans, the vast majority of which are small businesses. The RegFair Representative is also PBGC's Problem Resolution Officer for plan practitioners, and can be reached via a toll-free number (1-800-736-2444, ext. 4163) or e-mail (practitioner.pro@pbgc.gov).

Ask an Attorney

An attorney in PBGC's Office of the General Counsel is available by telephone or e-mail for informal advice on legal issues pertaining to compliance, enforcement, and other matters of concern. The General Inquiry Attorney can be reached via a toll-free number (1-800-736-2444, ext. 4020) or e-mail (AskOGC@pbgc.gov).

PBGC's Web site

The PBC web site (www.pbgc.gov) includes:

• The Small Business Guide to the PBGC. This easy-to-read synopsis of all of a small plan sponsor's obligations under ERISA and our regulations makes it much easier for the small business owner to understand and comply with the program requirements. The booklet also contains phone numbers and other information on where to go for help.

• Frequently Asked Questions.

• PBGC forms and instructions.

• Fact sheets on PBGC programs.

• Opinion Letters. The General Counsel issues formal opinions on legal issues under Title IV of the Employee Retirement Income Security Act (ERISA).

• The Blue Book sets forth various questions of general interest to practitioners posed by representatives of the Enrolled Actuaries Program Committee, and provides answers from PBGC staff.

• PBGC's Annual Report provides financial information and describes its customer service, enforcement and compliance activities.

Note: All resources and publications available on PBGC's website can also be obtained by calling our Customer Service Center (1-800-736-2444).

Outreach

PBGC's outreach efforts include:

• Meetings and conferences. PBGC representatives participate in meetings and conferences with pension practitioners to address issues of mutual concern and to get their feedback.

• Focus groups. We conduct periodic focus groups to help determine ways in which we can better serve our customers; for example, with members of the American Society of Pension Actuaries (ASPA), a group which serves primarily small businesses.

• Surveys. Surveys are conducted regularly to continuously receive feedback from our pension practitioners, the majority of whom deal with the pension plans of small businesses.

Alternative Dispute Resolution (ADR) Policy

Under PBGC's ADR policy, PBGC examines the suitability of using ADR to resolve issues that would otherwise be resolved by adversarial administrative or judicial processes. In appropriate disputes, PBGC uses ADR in a good faith effort to achieve consensual resolution of issues in controversy, including compliance and enforcement matters.

Pension Benefit Guaranty Corporation Single Point of Contact: Diane Morstein, Customer Service Center, Practitioner Problem Resolution Officer. Toll Free: 1-800-736-2444 ext 4136.

The public can fully resolve most issues by calling PBGC Customer Service Center staff, at 1-800-736-2444.

Railroad Retirement Board

The Railroad Retirement Board's primary function is to administer comprehensive retirement-survivor and unemployment-sickness benefit programs for the nation's railroad workers and their families under the Railroad Retirement and Railroad Unemployment Insurance Acts. In connection with the retirement program, the RRB has administrative responsibilities under the Social Security Act for certain benefit payments and railroad workers' Medicare coverage.

Railroad Retirement Board Single Point of Contact: Ronald J. Hodapp, Chief, Information Resources Management, Railroad Retirement Board, Telephone: 312-751-3366. E-mail: Ronald.Hodapp@rrb.gov Web site: www.rrb.gov.

Securities and Exchange Commission

Congress created the Securities and Exchange Commission in 1934 to protect investors, and to maintain fair, honest, and efficient national securities markets. The Commission provides extensive compliance assistance to the public. Small businesses subject to SEC regulation include:

• Issuers of securities,

• Investment companies and investment advisers,

• Broker-dealers, and

• Transfer agents.

Other businesses affected by SEC regulation include auditors of companies whose stocks are publicly held and subject to registration with the SEC. The SEC's Office of Small Business Policy, telephone number (202-942-2950), should generally be the first point of contact for any small business that seeks compliance assistance from the Securities and Exchange Commission. This office is the primary resource for small business issuers of securities. Small regulated entities may wish to contact the appropriate Division or other office directly (Market Regulation for broker-dealers and transfer agents; Investment Management for investment companies and investment advisers; the Office of Chief Accountant for accountants).

Members of the public seeking compliance assistance for Securities and Exchange Commission regulation may contact SEC staff by mail, e-mail, or telephone.

Sources of SEC Information

• Organization and functions of the SEC: The Investor's Advocate: http://www.sec.gov/about/whatwedo.shtml

• Brief review of governing federal regulations: The Laws That Govern the Securities Industry http://www.sec.gov/about/laws.shtml

• SEC regulation of small business capital formation and smaller public companies: Q & A: Small Business and the SEC http://www.sec.gov/info/smallbus/qasbsec.html

• SEC regulation of securities brokers and dealers: Compliance Guide to the Regulation of Brokers and Dealers http://www.sec.gov/divisions/marketreg/bdguide.htm

• Regulations and Forms for Small Securities Issuers that issue securities subject to SEC regulation: Regulations and Forms Applicable to Small Businesses http://www.sec.gov/info/smallbus.shtml

• Regulations and forms for registered investment advisers: Investment Adviser Regulation http://www.sec.gov/divisions/investment/iard/iastuff.shtml

• SEC forms and instructions for registered investment advisers: Investment Adviser Forms http://www.sec.gov/divisions/investment/iard/iastuff.shtml

• Procedures for obtaining accounting or auditing advice from the SEC's Chief Accountant's Office: Guidance on Consulting with the Office of the Chief Accountant http://www.sec.gov/info/accountants.shtml

• Descriptions of most commonly used SEC forms: http://www.sec.gov/info/edgar/forms.htm

• SEC regulations for recordkeeping and capital requirements for securities brokers and dealers: Broker-Dealer Net Capital and Books and Records Guidance http://www.sec.gov/divisions/marketreg/bdnetcapital.htm

• Staff analyses of securities laws and regulations as applied to particular legal, regulatory, or accounting issues: Staff Interpretations http://www.sec.gov/interps.shtml.

Seminars and Classes

• Annual meeting to explore means to improve capital formation for small business: Annual Government-Business Forum on Small Business Capital Formation http://www.sec.gov/info/smallbus/sbforum.shtml

Web-Based Compliance

• Small Cap and Private Companies: http://www.sec.gov/info/smallbus/qasbsec.htm

• Investment Adviser Registration: IARD http://www.sec.gov/divisions/investment/iaregulation.shtml

• Registration and disclosure documents required to be and voluntarily filed electronically: EDGAR—electronic filing of SEC disclosure documents http://www.sec.gov/edgar.shtml

Telephone Service

• Office of Small Business Policy: 202-942-2950

• Division of Enforcement: 202-942-4530

• Toll-Free Consumer Information: 1-800-SEC-0330

• Small and minority business procurement: (202) 942-4990

• Public company disclosure requirements: 202-942-2825

• Office of Interpretations and Guidance for Market Regulation: 202-942-0069

• Regulation of Investment Companies and Investment Advisers: 202-942-0659

Online/e-mail Service

• Inquiries about federal requirements for securities registration and corporate disclosure: cfletter@sec.gov

• Inquiries about applicability of securities laws to small business: smallbusiness@sec.gov

• Inquiries about the conduct of federally-regulated securities markets: marketreg@sec.gov

• Inquiries about federal regulation of investment advisers: IARDLIVE@sec.gov

• Inquiries about federal regulation of investment companies: IMOCC@sec.gov

Contacts

• Homepage: http://www.sec.gov

• News: http://www.sec.gov/news.shtml

• Regulatory: http://www.sec.gov/about/laws.shtml; http://www.sec.gov/rules.shtml

• Small Business: http://www.sec.gov/info/smallbus.shtml

• E-mail: smallbusiness@sec.gov

• Phone Number: (202) 942-2950

Securities and Exchange Commission Single Point of Contact: Gerald Laporte, Chief, Office of Small Business Policy, Division of Corporation Finance, Securities and Exchange Commission, 450 5th Street NW., Room 3501, Washington, DC 20549-0310. Telephone: 202-942-2950. Fax: 202-942-9516. E-mail: laporteg@sec.gov.

Selective Service System

Selective Service System Single Point of Contact: Calvin Montgomery, 1515 Wilson Blvd., Arlington, VA 22209. Telephone: 703-605-4038. E-mail: cmontgomery@sss.gov.

Small Business Administration

Small businesses wanting access to SBA programs should call SBA's Answer Desk toll-free or e-mail answerdesk@sba.gov. In many cases, the SBA information technician receiving a call will directly answer the question. If a matter needs attention from a particular program specialist in the caller's immediate area of the country, the SBA Answer Desk can put the caller in touch with a specific individual in an SBA District Office or program office.

SBA Answer Desk: 6302 Fairview Road, Suite 300, Charlotte, North Carolina 28210. Answer Desk TTY: (704) 344-6640. 1-800-UASK-SBA (1-800-827-5722). TTY Directory [Text] or [PDF]. Send e-mails to: answerdesk@sba.gov.

Other good ways to access compliance information about SBA programs are going to the SBA website's frequently asked questions about SBA programs at http://app1.sba.gov/faqs/ or to SBA's main webpage http://www.sba.gov/.

Small Business Administration Single Point of Contact: Ms. Jacqueline K. White, Chief , Administrative Information Branch, U.S. Small Business Administration, 409 3rd Street, SW., MC5101, Washington, DC 20416-0005. Telephone: 202-205-7044. Fax: 202-481-2916. E-mail: jacqueline.white@sba.gov.

Social Security Administration

The majority of the services listed below are offered as a part of the Social Security Administration's (SSA) service to the business community in general, not specifically to small businesses. These services are directed primarily to employers, businesses or organizations that serve as representative payees to Social Security beneficiaries, businesses that seek contracts with SSA and schools. There are four primary avenues of access to these services with significant overlaps among them.

Toll-Free Telephone Service

• Employers may use the toll-free access number (800 772-1213) to verify that they have the correct Social Security number (SSN) for an employee. This verification prevents the often difficult job of correcting wage reports made under an incorrect SSN. Up to five SSNs may be verified with one call if the employer can furnish his or her address and employer identification number (EIN). If employers need to verify more than 5 SSNs, but less than 50, the teleservice representative will advise the employer to contact the nearest SSA Field Office (FO) and will provide the FO's telephone number and address. There is a procedure for verifying more than 50 SSNs, but we do not expect that to be an issue with small businesses.

• New employers wishing to apply for an EIN may also call 800-772-1213 and request that application form SS-4, Application for Employer Identification Number, be sent to them along with the Internal Revenue Service (IRS) publication, Instructions for Form SS-4.

• SSA maintains the SSA Employer Reporting Service Center at 800 772-6270 or online at http://www.socialsecurity.gov/employer/. It can also be reached online from the SSA employer portal page. The Center can provide detailed information on the best way for an employer to report wages. An employer calling the main SSA 800 number and wanting more in-depth information about reporting wages, etc., will be referred to this number or website.

• Organizational Representative Payees include governmental or non-profit social service agencies that manage benefits for beneficiaries who are not able to manage benefits on their own and who have no friends or relatives suitable or willing to be payees. Organizational representative payees who must deal with the many issues that arise with beneficiaries who cannot manage their own benefits, including changes in address or circumstances, non-receipt of check, work issues and many other issues, can interact with SSA primarily by calling the main 800 number.

Online Services

• The SSA website, http://www.socialsecurity.gov, contains a link that directs businesses to the Business Services Online (BSO) website, http://www.socialsecurity.gov/bso/bsowelcome.htm. BSO is a suite of business services including Registration Services, Employer Services (Submit a Wage File, W-2 Online, View Status, View Notices and View Errors) and the Social Security Number Verification Service. The W-2 Online portion of the website is designed specifically for small businesses. The site allows employers to complete up to 20 W-2 forms on their computer screens. The service automatically computes the W-2 data for them, and the report is transmitted to SSA electronically. Employers can also print copies for their employees and for their records. Multiple sets of 20 W-2s can be submitted.

In 2003, almost 200,000 W-2s for 2002 were submitted to SSA via W-2 Online that would have otherwise been submitted on paper forms. The employer must be a registered BSO user to use these services, but registration is free. Businesses needing personalized assistance with wage reporting can follow a link, http://www.socialsecurity.gov/employer/wage_reporting_specialists.htm, to find a current list of Employer Services Liaison Officers in each region who are available to discuss specific wage reporting issues by phone. The Social Security personnel can help callers with all questions about how to submit W-2s to SSA. The telephone numbers are not toll-free.

• SSA's Office of Acquisition and Grants (OAG) maintains a website, www.socialsecurity.gov/oag, which contains acquisition information to assist small businesses interested in doing business with SSA. SSA's policies make doing business with the Agency easy for small businesses. All contracts are offered on an “open bid” basis, which means the bidding contractor does not have to be on any specific list of approved contractors. Some contracts are reserved for award to small businesses only.

• SSA maintains a website, www.socialsecurity.gov/payee, dedicated to Representative Payee requirements and responsibilities. This is significant, because many beneficiaries who need a payee have no family or friends willing to serve in this capacity. As a result, many small social service organizations serve as payees. This website makes it easy for small businesses to apply and be approved as an organizational payee. Training materials for payees are available at the website, including a written lesson, a PowerPoint presentation and a video. The written material and the PowerPoint program can be downloaded from the website, and the video can be ordered. Interested parties can request the material, including the video, on a compact disk.

• SSA must verify the full time attendance of certain students by asking school officials to complete a form certifying that the student/beneficiary is in full time attendance at the school. School officials can access a dedicated website, http://www.socialsecurity.gov/schoolofficials/, which explains the verification process, why the information is needed and what is expected of them. The site also has a “Frequently Asked Questions” page for school officials and also a page, http://www.socialsecurity.gov/schoolofficials/faqs_students.htm, for students. School officials and students are able to download the form if they lose the form they received from SSA.

Publications

• SSA publishes a quarterly newsletter in conjunction with the IRS called the “SSA-IRS Reporter.” This newsletter is mailed by IRS along with Form 941, Employer's Quarterly Federal Tax Return. It contains up-to-date wage and tax reporting information. While it is mailed to all employers, surveys show that it is predominately read by small business owners.

• The Employer's Guide to Filing Timely and Accurate W-2 Wage Reports is available both in hard copy and on the SSA website at http://www.socialsecurity.gov/employer/pub.htm. This pamphlet (SSA Pub. No. 16-004) explains an employer's responsibilities, how to file, where to file, how to avoid common reporting errors, how to correct them, finding help, etc.

• The publication, A Guide for Farmers, Growers and Crew Leaders (SSA Publication No. 05 10025), provides information on Social Security's benefit package and how to report income to SSA. This guide is available on SSA's website at http://www.socialsecurity.gov/employer/pub.htm.

Outreach

• SSA participates in a number of IRS-related events. Staff attend six tax seminars a year presented by IRS. SSA staffs a booth at these public seminars and also provides a 1½-hour workshop on employer reporting. A number of small businesses attend these workshops. SSA staff make presentations at eight payroll reporting conferences each year in different parts of the country. These conferences are attended primarily by larger businesses, but they are open to any business.

• SSA holds The National Payroll Reporting Forum on an annual basis at its Baltimore headquarters. This forum was established in 1990 so that Federal agencies and the business community could gather, identify, discuss and resolve common wage and tax reporting issues. This forum has had a significant effect on the accuracy of the wage data submitted to SSA. The forum also provides the business community an opportunity to have a voice in initiatives that will ultimately affect the way it does business. The forum is attended by many small companies from the surrounding states as well as by national payroll organizations and service bureaus. The Agency is holding the 2004 conference on May 20, 2004 at SSA headquarters in Baltimore.

• SSA's Office of Small and Disadvantaged Business Utilization assists small businesses by scheduling one-on-one meetings and participating in various procurement trade shows and conferences.

Social Security Administration Single Point of Contact: Elizabeth A. Davidson, SSA Reports Clearance Officer, 1338 Annex Building, 6401 Security Boulevard, Woodlawn, MD 21235. Telephone: 410-965-0454. Fax: 410-965-6400. E-Mail: Liz.Davidson@ssa.gov.

Surface Transportation Board

The Surface Transportation Board (STB) is an independent adjudicatory body administratively housed within the Department of Transportation. STB is responsible for the economic regulation of interstate surface transportation, primarily railroads, within the United States. STB's mission is to ensure that competitive, efficient and safe transportation services are provided to meet the needs of shippers, receivers and consumers. In furtherance of its mission, STB provides a number of services that small businesses might find useful:

• General Information: 202-565-1500

• Procurement: 202-565-1701

• Public Services: 202-565-1592 (how to participate in agency proceedings)

• Library/publications: 202-565-1668

• Rail Consumer Assistance (toll free): 866-254-1792

• Home page: www.stb.dot.gov

• Publications: Overview—Abandonments and Alternatives to Abandonments; So You Want to Start a Small Railroad

Surface Transportation Board Single Point of Contact: Anne K. Quinlan, 1925 K Street, NW., Ste. 894, Washington, DC 20423-0001. Telephone: 202-565-1727. E-mail: quinlana@stb.dot.gov.

Tennessee Valley Authority

Business Incubation Program

Over the years, TVA has provided capital to help communities establish business incubators to support new and expanding enterprises. The TVA Business Incubation Network includes 24 operational sites across the Valley where tenants share services, equipment, and building space. TVA provides technical and financial assistance to members of the TVA-supported network and also maintains the Business Incubator Tenant Loan Fund, a revolving fund that helps tenants meet short-term needs for cash flow and operating capital.

Online Business Resource Center

TVA's Web-based center serves as an information gateway to valuable public and private resources on entrepreneurship, financial and technical assistance, industrial organizations, and business services. Topics range from setting up a business plan to finding capital, paying taxes, and marketing. The site provides access to the programs and services offered by TVA, other Tennessee Valley organizations, and nationwide resources. Visit the Online Business Resource Center at www.tva.com/econdev/obr.

Minority Business Development Program

TVA supports the growth and expansion of minority and socially and economically disadvantaged businesses with diverse packages of technical, capital, and managerial assistance. A key feature of the program is the Minority Business Development Loan Fund (MBDLF), a revolving fund that provides for loans ranging from $50,000 to $500,000. Through the MBDLF and the Valley Coalition, a partnership between TVA and regional banks, TVA promotes job creation and stimulates capital investment in the Valley.

Small and Minority Business Mentoring

Small and minority businesses that provide services to TVA receive support through TVA's mentoring program, which helps these firms grow and enhance their business operations. Assistance includes matching suppliers with business opportunities, identifying key business contacts, encouraging joint ventures and alliances, and linking TVA procurement needs with manufacturers and businesses in the Tennessee Valley.

Partners

TVA's economic development programs are delivered in partnership with public and private organizations. Some of our partners are:

• Distributors of TVA power

• Chambers of commerce and local economic development authorities

• TVA-supported business incubators

• State departments of economic and community development

• The U.S. Small Business Administration

• The U.S. Department of Commerce's Minority Business Development Agency

• Small business development centers

• U.S. Department of Agriculture Rural Development

• The Valley Coalition, a public/private lending and business assistance partnership between TVA and participating Valley financial institutions.

Small Business Assistance Web site: http://www.tva.com/econdev/smallbiz.htm

Tennessee Valley Authority Single Point of Contact: Philip S. McMullan, Project Manager, Business Growth and Innovation, TVA. Telephone: 615-232-6227. Fax: 615-232-6189. E-mail: psmcmullan@tva.gov Web site: www.tva.com/econdev/obr

Morris K. Udall Foundation

Morris K. Udall Foundation Single Point of Contact: Ellen Wheeler, Deputy Executive Director and General Counsel, Morris K. Udall Foundation, 130 S. Scott Avenue, Tucson, AZ 85701. Telephone: 520-670-5529. Fax: 520-670-5530. E-mail: wheeler@udall.gov

U.S. Access Board

The U.S. Access Board (Board) develops and maintains accessibility guidelines and standards for the built environment, transportation vehicles, electronic and information technology and telecommunications. These design requirements are used to enforce several different laws, including the Americans with Disabilities Act. A key part of the Board's mission is providing technical assistance on the design requirements it develops and maintains. Information about any of the Board's guidelines or standards or accessible design can be obtained through the Board's toll free numbers at 800-872-2253 (v) and 800-993-2822 (TTY); through fax at 202-272-0081; mail addressed to U.S. Access Board 1331 F St. NW., Ste. 1000, Washington, DC 20004; e-mail to ta@access-board.gov or from the Board's Web site http://www.access-board.gov.

In addition, the Board participates in a wide range of training programs and conferences throughout the country every year. Information on upcoming events is available from the Board and is posted on its Web site at http://www.access-board.gov/research&training/Training.htm. The Board also publishes a host of guidance materials on its design requirements and other aspects of accessible design. Board publications are available in a variety of accessible formats. Copies of all Board publications are available free from the Board, including through its Web site at http://www.access-board.gov/indexes/pubsindex.htm.

U.S. Access Board Single Point of Contact: Elizabeth Stewart, Deputy General Counsel, U.S. Access Board, 1331 F Street NW., Suite 1000, Washington, DC 20004. Telephone: (202) 272-0042. TTY: (202) 272-0082. Fax: (202) 272-0081. E-mail: stewart@access-board.gov.

U.S. International Trade Commission

U.S. International Trade Commission Single Point of Contact: John Greer, 500 E St. SW., Washington DC 20436. Telephone: 202-205-3141. Fax: 202-205-2139. E-mail: john.greer@usitc.gov.

U.S. Trade Representative

U.S. Trade Representative Single Point of Contact: Gregory M. Walters, Director of Small Business Affairs, Office of the U.S. Trade Representative, 600 17th Street, NW., Washington, DC 20508. Telephone: (202) 395-6120. Fax: (202) 395-3692. E-Mail: Gwalters@ustr.gov.

[FR Doc. 04-14659 Filed 6-25-04; 8:45 am]

BILLING CODE 3110-01-P